DEPARTMENT OF COMMERCE

National Oceanic and Atmospheric Administration

50 CFR Part 679

[Docket No. 111207737-1735-01]

RIN 0648-XA711

Fisheries of the Exclusive Economic Zone Off Alaska; Gulf of Alaska; Proposed 2012 and 2013 Harvest Specifications for Groundfish

AGENCY: National Marine Fisheries Service (NMFS), National Oceanic and Atmospheric Administration (NOAA), Commerce.

ACTION: Proposed rule; request for comments.

SUMMARY: NMFS proposes 2012 and 2013 harvest specifications, apportionments, and Pacific halibut prohibited species catch limits for the groundfish fishery of the Gulf of Alaska (GOA). This action is necessary to establish harvest limits for groundfish during the 2012 and 2013 fishing years and to accomplish the goals and objectives of the Fishery Management Plan for Groundfish of the Gulf of Alaska. The intended effect of this action is to conserve and manage the groundfish resources in the GOA in accordance with the Magnuson-Stevens Fishery Conservation and Management Act.

DATES: Comments must be received by January 23, 2012.

ADDRESSES: Address written comments to Glenn Merrill, Assistant Regional Administrator, Sustainable Fisheries Division, Alaska Region, NMFS, Attn: Ellen Sebastian. You may submit comments on this document, identified by NOAA-NMFS-2011-0228, by any one of the following methods:

• Electronic Submissions: Submit all electronic public comments via the Federal eRulemaking Portal at http://www.regulations.gov. To submit comments via the e-Rulemaking Portal, first click the “submit a comment” icon, then enter NOAA-NMFS-2011-0228 in the keyword search. Locate the document you wish to comment on from the resulting list and click on the “Submit a Comment” icon on that line.

• Mail comments to: P.O. Box 21668, Juneau, AK 99802-1668.

• Fax comments to: (907) 586-7557.

• Hand deliver comments to the Federal Building at: 709 West 9th Street, Room 420A, Juneau, AK.

Instructions: Comments must be submitted by one of the above methods to ensure that the comments are received, documented, and considered by NMFS. Comments sent by any other method, to any other address or individual, or received after the end of the comment period, may not be considered. All comments received are a part of the public record and will generally be posted for public viewing on http://www.regulations.gov without change. All personal identifying information (e.g., name, address) submitted voluntarily by the sender will be publicly accessible. Do not submit confidential business information, or otherwise sensitive or protected information. NMFS will accept anonymous comments (enter “N/A” in the required fields if you wish to remain anonymous). Attachments to electronic comments will be accepted in Microsoft Word or Excel, WordPerfect, or Adobe PDF file formats only.

Electronic copies of the Alaska Groundfish Harvest Specifications Final Environmental Impact Statement (Final EIS), Supplementary Information Report (SIR) to the EIS, and the Initial Regulatory Flexibility Analysis (IRFA) prepared for this action may be obtained from http://www.regulations.gov or from the Alaska Region Web site at http://alaskafisheries.noaa.gov. The final 2010 Stock Assessment and Fishery Evaluation (SAFE) report for the groundfish resources of the GOA, dated November 2010, is available from the North Pacific Fishery Management Council (Council) at 605 West 4th Avenue, Suite 306, Anchorage, AK 99501, phone (907) 271-2809, or from the Council's Web site at http://alaskafisheries.noaa.gov/npfmc. The draft 2011 SAFE report for the GOA is available from the same source.

FOR FURTHER INFORMATION CONTACT: Tom Pearson, (907) 481-1780, or Obren Davis, (907) 586-7228.

SUPPLEMENTARY INFORMATION: NMFS manages the GOA groundfish fisheries in the exclusive economic zone (EEZ) of the GOA under the Fishery Management Plan for Groundfish of the Gulf of Alaska (FMP). The Council prepared the FMP under the authority of the Magnuson-Stevens Fishery Conservation and Management Act (Magnuson-Stevens Act), 16 U.S.C. 1801, et seq. Regulations governing U.S. fisheries and implementing the FMP appear at 50 CFR parts 600, 679, and 680.

These proposed harvest specifications are based in large part on the 2010 SAFE report (see ADDRESSES). On December 8, 2011, the Council considered the draft 2011 SAFE report as it developed its recommendations for the final 2012 and 2013 overfishing levels (OFLs), acceptable biological catch (ABC) amounts, and total allowable catch (TAC) limits. In addition to the proposed harvest specifications, this proposed rule identifies anticipated changes to the proposed harvest specifications that may result from the Council's review of the draft 2011 SAFE report.

The FMP and its implementing regulations require NMFS, after consultation with the Council, to specify the TACs for each target species, the sum of which must be within the optimum yield (OY) range of 116,000 to 800,000 metric tons (mt). Section 679.20(c)(1) further requires NMFS to publish and solicit public comment on proposed annual TACs, halibut prohibited species catch (PSC) amounts, and seasonal allowances of pollock and Pacific cod. The proposed harvest specifications in Tables 1 through 21 of this document satisfy these requirements. For 2012 and 2013, the sum of the proposed TAC amounts is 584,440 mt. Under § 679.20(c)(3), NMFS will publish the final 2012 and 2013 harvest specifications after (1) considering comments received within the comment period (see DATES), (2) consulting with the Council at its December 2011 meeting, and (3) considering information presented in the Final EIS (see ADDRESSES) and the final 2011 SAFE report prepared for the 2012 and 2013 groundfish fisheries.

Other Actions Affecting the 2012 and 2013 Harvest Specifications Amendment 83 to the GOA FMP

NMFS prepared a final rule to implement Amendment 83 to the FMP, which was published on December 1, 2011 (76 FR 74670). Amendment 83 allocates the Pacific cod TAC in the Western and Central regulatory areas of the GOA among various gear and operational sectors, and eliminates inshore and offshore allocations in these two regulatory areas. These allocations apply to both annual and seasonal limits of Pacific cod for the applicable sectors. These apportionments are discussed in detail in a subsequent section of this proposed rule. Amendment 83 is intended to reduce competition among sectors and to support stability in the Pacific cod fishery. The final rule implementing Amendment 83 limits access to the Federal Pacific cod TAC fisheries prosecuted in State of Alaska (State) waters adjacent to the Western and Central regulatory areas in the GOA, otherwise known as parallel fisheries. Amendment 83 does not change the existing annual Pacific cod TAC allocation between the inshore and offshore processing components in the Eastern regulatory area of the GOA. A full description of Amendment 83 is contained in the proposed rule for that action (76 FR 44700, July 26, 2011).

In the Central GOA, NMFS must allocate the Pacific cod TAC among vessels using jig gear, catcher vessels (CVs) less than 50 feet (15.24 meters) length overall using hook-and-line gear, CVs equal to or greater than 50 feet (15.24 meters) length overall using hook-and-line gear, catcher/processors (C/Ps) using hook-and-line gear, CVs using trawl gear, C/Ps using trawl gear, and vessels using pot gear. In the Western GOA, NMFS must allocate the Pacific cod TAC among vessels using jig gear, CVs using hook-and-line gear, C/Ps using hook-and-line gear, CVs using trawl gear, and vessels using pot gear. Table 3 lists the proposed amounts of these seasonal allowances. For the Pacific cod sector splits and associated management measures to become effective in the GOA at the beginning of the 2012 fishing year, NMFS intends to publish a final rule in late December 2011 to revise the final 2012 harvest specifications for Pacific cod (76 FR 11111, March 1, 2011).

If the implementation of Amendment 83 was delayed, NMFS would have managed the Pacific cod fisheries in the GOA with existing fisheries management measures. The Pacific cod TACs would have been apportioned among the inshore and offshore components in the Western and Central GOA management areas, rather than among the various fishing sectors described previously. The Pacific cod fishery would have been subject to existing fisheries management measures until the approval and implementation of the Pacific cod sector splits embodied in Amendment 83.

Halibut Prohibited Species Catch Limits Revisions

At its October 2011 meeting, the Council decided to pursue possible revisions to the GOA halibut PSC limits through an FMP amendment and an associated regulatory amendment. The alternatives being analyzed include no change from the current halibut PSC limits, and reductions of 5, 10, or 15 percent from the current halibut PSC limits apportioned between trawl gear and hook-and-line gear. Apportionment of trawl PSC limits between the deep-water and shallow-water fisheries, limits for non-exempt American Fisheries Act (AFA) CVs using trawl gear, Rockfish Program halibut PSC limits for the C/P and CV sectors, and halibut PSC limits for Amendment 80 Program vessels could be affected. The Council intends to schedule initial review and final action for the proposed amendment during the first half of 2012 for implementation in the latter half of 2012 or at the beginning of 2012, pending approval by the Secretary of Commerce (Secretary).

Pelagic Shelf Rockfish Species Group Revisions

At the October 2011 meeting, the Council recommended removing widow and yellowtail rockfish from the pelagic shelf rockfish (PSR) species group and including these two species in the “other rockfish” species group. The remaining species in the PSR species group, dusky rockfish, would be managed as a separate, individual species. Extensive GOA trawl survey data and other information now exist that indicate dusky rockfish does not generally share the same geographic distribution and habitat with the other two PSR species, yellowtail and widow rockfish.

There has been no directed fishing for the “other rockfish” species group in many years, and present catches are all taken as incidental catch in other directed fisheries. In these proposed harvest specifications, the PSR species group would consist of a single species, dusky rockfish.

NMFS intends to propose FMP and regulatory amendments to dissolve the PSR species group and substitute a description of the dusky rockfish target fishery, revise the description of the “other rockfish” fishery in the FMP, and substitute dusky rockfish for PSR throughout the regulations at 50 CFR part 679. The management measures associated with PSR and dusky rockfish would be identical.

Based on the 2010 SAFE report this action would reduce the proposed 2012 and 2013 OFLs and ABCs for PSR by 121 mt and 91 mt, respectively. NMFS proposes to add these amounts to the 2012 and 2013 OFLs and ABCs for “other rockfish.” These amounts are listed in Table 1.

Rockfish Program Renewal

The existing Central GOA Rockfish Pilot Program will expire December 31, 2011. For that reason, NMFS did not include 2012 allocations to the Rockfish Pilot Program in the final 2011 and 2012 harvest specifications for groundfish (76 FR 11111, March 1, 2011). NMFS published a proposed rule to implement Amendment 88 to the GOA FMP on August 19, 2011 (76 FR 52148). If approved by the Secretary, Amendment 88 would establish the Central GOA Rockfish Program (Rockfish Program), which would be effective from January 1, 2012, through December 31, 2021. This proposed program would allocate exclusive harvest privileges to License Limitation Program (LLP) license holders who used trawl gear to target Pacific ocean perch, PSR, and northern rockfish during specific qualifying years. These are the three primary rockfish species in the Rockfish Program.

The incidentally harvested groundfish taken in the primary rockfish fisheries are allocated under the proposed Rockfish Program as secondary species. The secondary species are Pacific cod, rougheye rockfish, shortraker rockfish, thornyhead rockfish, and sablefish. Also, the proposed Rockfish Program would allocate a portion of the halibut PSC limit from the third season deep-water species fishery allowance for the GOA trawl fisheries to Rockfish Program participants. The proposed Rockfish Program would allocate a fixed amount of the trawl PSC allowance to the Rockfish Program: 117 mt to the CV sector and 74 mt to the C/P sector. It also would permanently retire 27 mt of the halibut PSC limit from being re-allocated to any fishery.

The proposed Rockfish Program would continue to assign quota share and cooperative quota to participants for primary and secondary species, allow a participant holding an LLP license with rockfish quota share to form a rockfish cooperative with other persons, and allow holders of C/P LLP licenses to opt-out of participating in a rockfish cooperative on an annual basis. An entry level fishery for rockfish primary species also would continue for vessels using longline gear. Additionally, the proposed Rockfish Program continues to establish sideboard limits to limit the ability of harvesters operating under the Rockfish Program from increasing their participation in other, non-Rockfish Program fisheries. This proposed rule includes those elements of the proposed Rockfish Program which could be included in the final 2012 and 2013 harvest specifications for the GOA.

If Amendment 88 is not implemented or the implementation of the Rockfish Program is delayed, the Central GOA rockfish fisheries would be managed under applicable LLP groundfish regulations. These regulations govern the general groundfish fisheries in the GOA, and include permitting, recordkeeping, and other management requirements. Rockfish cooperatives would not be permitted to form, and NMFS would resume the management of the primary rockfish species allocated under the Rockfish Program, rather than having cooperatives be responsible for managing their cooperative quota. NMFS does not consider it likely that the implementation of Amendment 88 will be delayed. If implementation were delayed into early 2012, the primary species managed under the Rockfish Program could still be allocated and caught in 2012, as these rockfish fisheries typically commence in the summer months.

Other Actions Affecting Prohibited Species Catch (PSC) in the GOA

NMFS has submitted Amendment 93 to the FMP for review by the Secretary. NMFS has published a proposed rule to implement Amendment 93 (76 FR 77757, December 14, 2011). If approved, Amendment 93 would establish an annual PSC limit of 25,000 Chinook salmon for the pollock fisheries in the Central and Western GOA, increase observer coverage requirements for vessels under 60 feet length overall until superseded by pending changes to the North Pacific Groundfish Observer Program, and require full retention of all salmon taken in the Central and Western GOA pollock fisheries until they can be counted and sampled. The annual 25,000 Chinook salmon PSC limit would be apportioned between the Western GOA (6,684 salmon) and the Central GOA (18,316 salmon).

If Amendment 93 is approved and implemented in 2012 prior to the start of pollock C season on August 25, 2012, NMFS could establish a Chinook salmon PSC limit in the C and D pollock seasons of 5,598 fish in the Western GOA and 8,929 fish in the Central GOA. If the annual Chinook salmon PSC limits are reached in either reporting area, directed fishing for pollock in the applicable reporting area would be closed for the remainder of the fishing year. However, if the implementing rulemaking is not completed prior to the start of the pollock C season, then NMFS would delay the establishment of Chinook salmon PSC limits until 2013. Until the approval and implementation of Amendment 93 occurs, there are no applicable Chinook salmon PSC limits in effect in the GOA.

Proposed ABC and TAC Specifications

In October 2011, the Council, its Scientific and Statistical Committee (SSC), and its Advisory Panel (AP) reviewed most recent biological and harvest information about the condition of groundfish stocks in the GOA. This information was compiled by the Plan Team and presented in the final 2010 SAFE report for the GOA groundfish fisheries, dated November 2010 (see ADDRESSES). The amounts proposed for the 2012 and 2013 ABCs are based on the 2010 SAFE report, with the exception of the PSR and “other rockfish” species group, as discussed previously in the preamble. The AP and Council recommended that the proposed 2012 and 2013 TACs be set equal to ABCs for all species and species groups. The proposed ABCs and TACs could be changed in the final harvest specifications depending on the most recent scientific information contained in the final 2011 SAFE report. The SAFE report contains a review of the latest scientific analyses and estimates of each species' biomass and other biological parameters, as well as summaries of the available information on the GOA ecosystem and the economic condition of the groundfish fisheries off Alaska. From these data and analyses, the Plan Team estimates an OFL and ABC for each species or species group.

In November 2011, the Plan Team updated the 2010 SAFE report to include new information collected during 2011, such as NMFS stock surveys, revised stock assessments, and catch data. The Plan Team compiled this information and produced the draft 2011 SAFE report for presentation at the December 2011 Council meeting. The Council will consider information in the draft 2011 SAFE report, recommendations from the November 2011 Plan Team meeting and December 2011 SSC and AP meetings, public testimony, and relevant written public comments in making its recommendations for the final 2012 and 2013 harvest specifications. Pursuant to section 3.2.3.4.1 of the FMP, the Council could recommend adjusting the TACs if “warranted on the basis of bycatch considerations, management uncertainty, or socioeconomic considerations, or if required in order to cause the sum of the TACs to fall within the OY range.”

In previous years the largest changes from the proposed to the final harvest specifications have been based on the most recent NMFS stock surveys, which provide updated estimates of stock biomass and spatial distribution, and changes to the models used for making stock assessments. NMFS scientists presented updated and new survey results, changes to assessment models, and accompanying stock estimates at the September Plan Team meeting, and the SSC reviewed this information at the October 2011 Council meeting. In November 2011, the Plan Team considered updated stock assessments for groundfish, which were included in the draft 2011 SAFE report.

If the draft 2011 SAFE report indicates that the stock biomass trend is increasing for a species, then the final 2012 and 2013 harvest specifications for that species may reflect an increase from the proposed harvest specifications. The draft 2011 SAFE reports indicate that the biomass trend for pollock, Pacific cod, sablefish, shortraker rockfish, big skates, and sculpins may be increasing. Conversely, if the draft 2011 SAFE report indicates that the stock biomass trend is decreasing for a species, then the final 2012 and 2013 harvest specifications may reflect a decrease from the proposed harvest specifications. The draft 2011 SAFE reports indicate that the biomass trend for shallow-water flatfish, deep-water flatfish, flathead sole, northern rockfish, rougheye rockfish, demersal shelf rockfish, pelagic shelf rockfish (dusky rockfish), thornyhead rockfish, longnose skates, and other skates may be decreasing. The biomass trends for species not listed above are relatively level and stable or cannot be determined.

The proposed ABCs and TACs are based on the best available biological and socioeconomic information, including projected biomass trends, information on assumed distribution of stock biomass, and revised methods used to calculate stock biomass. The FMP specifies the formulas, or tiers, to be used to compute ABCs and OFLs. The formulas applicable to a particular stock or stock complex are determined by the level of reliable information available to the fisheries scientists. This information is categorized into a successive series of six tiers to define OFL and ABC amounts, with tier one representing the highest level of information quality available and tier six representing the lowest level of information quality available.

The SSC adopted the proposed 2012 and 2013 OFLs and ABCs recommended by the Plan Team for all groundfish species. The Council adopted the SSC's OFL and ABC recommendations and the AP's TAC recommendations. These amounts are unchanged from the final 2012 harvest specifications published in the Federal Register on March 1, 2011 (76 FR 11111), with the exception of certain species categories that are discussed in the following section.

Comparison of Final 2011 TAC Amounts With Proposed 2012 and 2013 ABC and TAC Amounts

The proposed 2012 and 2013 ABCs for pollock, deep-water flatfish, flathead sole, and “other rockfish” are higher than the final harvest specifications established for 2011. In contrast, the proposed 2012 and 2013 ABCs for Pacific cod, sablefish, rex sole, arrowtooth flounder, Pacific ocean perch, northern rockfish, and pelagic shelf rockfish are lower than those established for 2011. These differences reflect the stock projections and trends made for these species during the final GOA harvest specifications process in November 2010. For the remaining target species, the Council recommended and NMFS proposes ABC levels that are unchanged from 2011. More information on these changes is included in the final 2010 SAFE report (see ADDRESSES). The most recent stock assessment information will be included in the 2011 SAFE report, which will be available for Council approval at its December 2011 meeting.

In the GOA, the total proposed 2012 and 2013 TAC amounts are 584,440 mt, an increase of 84 percent from the 2011 TAC total of 318,288 mt. As discussed below, the TAC increases proposed for 2012 and 2013 are due almost entirely to increases for flatfish species, “other rockfish”, and Atka mackerel. The following table compares the final 2011 TACs to the proposed 2012 and 2013 TACs.

Comparison of Final 2011 and Proposed 2012 and 2013 Total Allowable Catch (TAC) Amounts in the Gulf of Alaska
[Values are in metric tons]
Species | Final 2011 TACs | Proposed 2012 and 2013 TACS
Pollock | 96,215 | 121,649
Pacific cod | 65,100 | 58,650
Sablefish | 11,290 | 10,345
Shallow water flatfish | 20,062 | 56,242
Deep-water flatfish | 6,305 | 6,486
Rex sole | 9,565 | 9,396
Arrowtooth flounder | 43,000 | 211,027
Flathead sole | 10,587 | 50,591
Pacific ocean perch | 16,997 | 16,187
Northern rockfish | 4,854 | 4,614
Shortraker rockfish | 914 | 914
Other rockfish | 1,195 | 3,842
Pelagic shelf rockfish | 4,754 | 4,347
Rougheye rockfish | 1,312 | 1,312
Demersal shelf rockfish | 300 | 300
Thornyhead rockfish | 1,770 | 1,770
Atka mackerel | 2,000 | 4,700
Big skates | 3,328 | 3,328
Longnose skates | 2,852 | 2,852
Other skates | 2,093 | 2,093
Squids | 1,148 | 1,148
Sharks | 6,197 | 6,197
Octopuses | 954 | 954
Sculpins | 5,496 | 5,496
Total | 318,288 | 584,440

Specification and Apportionment of TAC Amounts

The Council recommended proposed 2012 and 2013 TACs that are equal to proposed ABCs for all species and species groups, with the exception of Pacific cod. The Pacific cod TACs are set to accommodate the State's Guideline Harvest Levels (GHL) for Pacific cod so that the ABCs are not exceeded. The Council's rationale for increases for flatfish species, “other rockfish”, and Atka mackerel TACs was that the sum of the proposed TACs is well below the OY limit of 800,000 mt. In addition, the Council noted that NMFS prohibits retention of a species when its TAC is reached, even when ABC levels are significantly above TAC levels. Public testimony indicated that the 2011 harvest of some species, such as arrowtooth flounder in the Central regulatory area of the GOA, were expected to close for directed fishing given the relatively small 2011 TAC compared to the ABC. Therefore, an increase in these TACs could help prevent regulatory discards. Testifiers also noted that several of the current 2012 flatfish ABCs are significantly higher than their respective TACs, which means that the TACs for these flatfish species could be increased under the OY and the buffer available between TACs and ABCs.

NMFS does not anticipate any difficulty managing the increased TACs for flatfish, “other rockfish,” and Atka mackerel within bounds and constraints of existing fisheries management measures applicable to these GOA fisheries. NMFS believes that harvest of most GOA flatfish species will continue to be constrained by halibut PSC limits and that 2012 harvests of these species will approximate 2011 harvests. In addition, per its standard management practices, NMFS will continue to assess whether the TAC established for each of these species will support a directed fishery. If so, NMFS will then calculate a directed fishing allowance (DFA) for a given species that is below the TAC. The difference between TAC and the DFA is the amount that is available for incidental catch of a particular species in other groundfish fisheries. At its October 2011 meeting, the Council expressed an interest in reducing the final 2012 and 2013 TACs for flatfish, “other rockfish,” and Atka mackerel to amounts consistent with the November 2011 SAFE report and anticipated future harvests. This issue may be addressed at the Council's December 2011 meeting.

The ABC for the pollock stock in the combined Western, Central, and West Yakutat Regulatory Areas (W/C/WYK) has been adjusted to reflect the GHL established by the State for the Prince William Sound (PWS) pollock fishery since its inception in 1995. Genetic studies revealed that the pollock in PWS was not a separate stock from the combined W/C/WYK population. Accordingly, the Council recommended decreasing the W/C/WYK pollock ABC to account for the State's PWS GHL. For 2012, the PWS GHL for pollock is 2,7700 mt, per the recommendation of State of Alaska fisheries managers.

The apportionment of annual pollock TAC among the Western and Central Regulatory Areas of the GOA reflects the seasonal biomass distribution and is discussed in greater detail below. The annual pollock TAC in the Western and Central Regulatory Areas of the GOA is apportioned among Statistical Areas 610, 620, and 630, and divided equally among each of the following four seasons: The A season (January 20 through March 10), the B season (March 10 through May 31), the C season (August 25 through October 1), and the D season (October 1 through November 1) (50 CFR 679.23(d)(2)(i) through (iv), and 679.20(a)(5)(iv)(A) and (B)). These amounts are listed in Table 2.

The AP, SSC, and Council recommended apportionment of the ABC for Pacific cod in the GOA among regulatory areas based on the three most recent NMFS summer trawl surveys. The proposed 2012 and 2013 Pacific cod TACs are affected by the State waters fishery for Pacific cod in the Western and Central Regulatory Areas, as well as in PWS. The Plan Team, SSC, AP, and Council recommended that the sum of all State and Federal water Pacific cod removals from the GOA not exceed ABC recommendations. Accordingly, the Council recommended reducing the proposed 2012 and 2013 Pacific cod TACs from the proposed ABCs for the Eastern, Central, and Western Regulatory Areas to account for State GHLs. Therefore, the proposed 2012 and 2013 Pacific cod TACs are less than the proposed ABCs by the following amounts: (1) Eastern GOA, 587 mt; (2) Central GOA, 12,121 mt; and (3) Western GOA, 6,842 mt. These amounts reflect the sum of the State's 2012 and 2013 GHLs in these areas, which are 25 percent of the Eastern, Central, and Western GOA proposed ABCs. These are the same percentage amounts used to apportion the Pacific cod ABCs to State waters GHLs that were used in 2011.

NMFS also is proposing seasonal apportionments of the annual Pacific cod TACs in the Western and Central Regulatory Areas. Sixty percent of the annual TAC is apportioned to the A season for hook-and-line, pot, or jig gear from January 1 through June 10, and for trawl gear from January 20 through June 10. Forty percent of the annual TAC is apportioned to the B season for hook-and-line, pot, or jig gear from September 1 through December 31, and for trawl gear from September 1 through November 1 (§§ 679.23(d)(3) and 679.20(a)(12)).

The Council's recommendation for sablefish area apportionments also takes into account the prohibition on the use of trawl gear in the SEO District of the Eastern Regulatory Area and makes available five percent of the combined Eastern Regulatory Area TACs to trawl gear for use as incidental catch in other directed groundfish fisheries in the WYK District (§ 679.20(a)(4)(i)). These amounts are listed in Tables 4 and 5.

The sum of the proposed TACs for all GOA groundfish is 584,440 mt for 2012 and 2013, which is within the OY range specified by the FMP. The sums of the proposed 2012 and 2013 TACs are higher than the final 2012 TACs currently specified for the GOA groundfish fisheries (76 FR 11111, March 1, 2011). The proposed 2012 and 2013 TACs are higher for shallow water flatfish, arrowtooth flounder, flathead sole, other rockfish, and Atka mackerel. The proposed 2012 and 2013 TACs are lower for rex sole and pelagic shelf rockfish, as a result of NMFS incorrectly specifying the TAC for rex sole in the SEO District and the assignment of widow and yellowtail rockfish from the pelagic shelf rockfish species group to the “other rockfish” species group.

In the final 2012 harvest specifications (76 FR 11111, March 1, 2011), NMFS incorrectly specified the 2012 ABC and TAC for rex sole in the Southeast Outside (SEO) District as 889 mt. Based on the 2010 SAFE report and the Council's recommendation for the 2012 rex sole TACs, this action proposes to correct this amount to 869 mt. For 2012 and 2013, the Council recommended and NMFS proposes the ABCs and TACs listed in Table 1. The proposed ABCs reflect harvest amounts that are less than the specified overfishing levels. The sum of the proposed 2012 and 2013 ABCs for all assessed groundfish is 603,990 mt, which is higher than the final 2011 ABC total of 590,121 mt (76 FR 11111, March 1, 2011).

Table 1 lists the proposed 2012 and 2013 OFLs, ABCs, TACs, and area apportionments of groundfish in the GOA. These amounts are consistent with the biological condition of groundfish stocks as described in the 2010 SAFE report, and adjusted for other biological and socioeconomic considerations, including maintaining the total TAC within the required OY range. These proposed amounts are subject to change pending the completion of the draft 2011 SAFE report and the Council's recommendations for the final 2012 and 2013 harvest specifications during its December 2011 meeting.

Table 1—Proposed 2012 and 2013 ABCs, TACs, and OFLs of Groundfish for the Western/Central/West Yakutat (W/C/WYK), Western (W), Central (C), Eastern (E) Regulatory Areas, and in the West Yakutat (WYK), Southeast Outside (SEO), and Gulfwide (GW) Districts of the Gulf of Alaska
[Values are rounded to the nearest metric ton]
Species | Area ¹ | OFL | ABC | TAC
Pollock ² | Shumagin (610) | n/a | 34,932 | 34,932
| Chirikof (620) | n/a | 48,293 | 48,293
| Kodiak (630) | n/a | 26,155 | 26,155
| WYK (640) | n/a | 3,024 | 3,024
| W/C/WYK (subtotal) | 151,030 | 112,404 | 112,404
| SEO (650) | 12,326 | 9,245 | 9,245
| Total | 163,356 | 121,649 | 121,649
Pacific cod ³ | W | n/a | 27,370 | 20,528
| C | n/a | 48,484 | 36,362
| E | n/a | 2,346 | 1,760
| Total | 92,300 | 78,200 | 58,650
Sablefish ⁴ | W | n/a | 1,484 | 1,484
| C | n/a | 4,343 | 4,343
| WYK | n/a | 1,818 | 1,818
| SEO | n/a | 2,700 | 2,700
| E (WYK and SEO) (subtotal) | n/a | 4,518 | 4,518
| Total | 12,232 | 10,345 | 10,345
Shallow-water flatfish ⁶ | W | n/a | 23,681 | 23,681
| C | n/a | 29,999 | 29,999
| WYK | n/a | 1,228 | 1,228
| SEO | n/a | 1,334 | 1,334
| Total | 67,768 | 56,242 | 56,242
Deep-water flatfish ⁵ | W | n/a | 541 | 541
| C | n/a | 3,004 | 3,004
| WYK | n/a | 2,144 | 2,144
| SEO | n/a | 797 | 797
| Total | 8,046 | 6,486 | 6,486
Rex sole | W | n/a | 1,490 | 1,490
| C | n/a | 6,184 | 6,184
| WYK | n/a | 853 | 853
| SEO | n/a | 869 | 869
| Total | 12,279 | 9,396 | 9,396
Arrowtooth flounder | W | n/a | 33,975 | 33,975
| C | n/a | 143,119 | 143,119
| WYK | n/a | 22,327 | 22,327
| SEO | n/a | 11,606 | 11,606
| Total | 248,576 | 211,027 | 211,027
Flathead sole | W | n/a | 17,960 | 17,960
| C | n/a | 28,938 | 28,938
| WYK | n/a | 2,125 | 2,125
| SEO | n/a | 1,568 | 1,568
| Total | 63,202 | 50,591 | 50,591
Pacific ocean perch ⁷ | W | 3,068 | 2,665 | 2,665
| C | 11,379 | 9,884 | 9,884
| WYK | n/a | 1,845 | 1,845
| SEO | n/a | 1,793 | 1,793
| E (WYK and SEO) (subtotal) | 4,188 | 3,638 | 3,638
| Total | 18,635 | 16,187 | 16,187
Northern rockfish ⁸,⁹ | W | n/a | 2,446 | 2,446
| C | n/a | 2,168 | 2,168
| E | n/a | 0 | 0
| Total | 5,498 | 4,614 | 4,614
Shortraker rockfish ¹¹ | W | n/a | 134 | 134
| C | n/a | 325 | 325
| E | n/a | 455 | 455
| Total | 1,219 | 914 | 914
Other rockfish ⁹,¹² | W | n/a | 224 | 224
| C | n/a | 566 | 566
| WYK | n/a | 283 | 283
| SEO | n/a | 2,769 | 2,769
| Total | 5,002 | 3,842 | 3,842
Pelagic shelf rockfish ¹³ | W | n/a | 558 | 558
| C | n/a | 2,791 | 2,791
| WYK | n/a | 372 | 372
| SEO | n/a | 626 | 626
| Total | 5,266 | 4,347 | 4,347
Rougheye rockfish ¹⁰ | W | n/a | 81 | 81
| C | n/a | 868 | 868
| E | n/a | 363 | 363
| Total | 1,579 | 1,312 | 1,312
Demersal shelf rockfish ¹⁴ | SEO | 479 | 300 | 300
Thornyhead rockfish | W | n/a | 425 | 425
| C | n/a | 637 | 637
| E | n/a | 708 | 708
| Total | 2,360 | 1,770 | 1,770
Atka mackerel | GW | 6,200 | 4,700 | 4,700
Big skates ¹⁵ | W | n/a | 598 | 598
| C | n/a | 2,049 | 2,049
| E | n/a | 681 | 681
| Total | 4,438 | 3,328 | 3,328
Longnose skates ¹⁶ | W | n/a | 81 | 81
| C | n/a | 2,009 | 2,009
| E | n/a | 762 | 762
| Total | 3,803 | 2,852 | 2,852
Other skates ¹⁷ | GW | 2,791 | 2,093 | 2,093
Squids | GW | 1,530 | 1,148 | 1,148
Sharks | GW | 8,263 | 6,197 | 6,197
Octopus | GW | 1,272 | 954 | 954
Sculpins | GW | 7,328 | 5,496 | 5,496
Total |  | 743,422 | 603,990 | 584,440
¹ Regulatory areas and districts are defined at § 679.2. (W=Western Gulf of Alaska; C=Central Gulf of Alaska; E=Eastern Gulf of Alaska; WYK=West Yakutat District; SEO=Southeast Outside District; GW=Gulf-wide).
² Pollock is apportioned in the Western/Central Regulatory Areas among three statistical areas. Table 2 lists the proposed 2012 and 2013 seasonal apportionments. In the West Yakutat and Southeast Outside Districts of the Eastern Regulatory Area, pollock is not divided into seasonal allowances.
³ The annual Pacific cod TAC is apportioned 60% to the A season and 40% to the B season in the Western and Central Regulatory Areas of the GOA. Pacific cod is allocated 90% for processing by the inshore component and 10% for processing by the offshore component. Table 3 lists the proposed 2012 and 2013 Pacific cod seasonal apportionments.
⁴ Sablefish is allocated to hook-and-line and trawl gear in 2012 and trawl gear in 2013. Tables 4 and 5 list the proposed 2012 and 2013 allocations of sablefish TACs.
⁵ “Deep-water flatfish” means Dover sole, Greenland turbot, Kamchatka flounder, and deepsea sole.
⁶ “Shallow-water flatfish” means flatfish not including “deep-water flatfish,” flathead sole, rex sole, or arrowtooth flounder.
⁷ “Pacific ocean perch” means Sebastes alutus.
⁸ “Northern rockfish” means Sebastes polyspinous. For management purposes the 3 mt apportionment of ABC to the WYK District of the Eastern Gulf of Alaska has been included in the slope rockfish species group.
⁹ “Slope rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), S. reedi (yellowmouth), S. entomelas (widow), and S. flavidus (yellowtail). In the Eastern GOA only, slope rockfish also includes northern rockfish, S. polyspinous.
¹⁰ “Rougheye rockfish” means Sebastes aleutianus (rougheye) and Sebastes melanostictus (blackspotted).
¹¹ “Shortraker rockfish” means Sebastes borealis.
¹² “Other rockfish” in the Western and Central Regulatory Areas and in the West Yakutat District means slope rockfish and demersal shelf rockfish. The “other rockfish” species group in the SEO District means slope rockfish.
¹³ “Pelagic shelf rockfish” means, Sebastes variabilis (dusky).
¹⁴ “Demersal shelf rockfish” means Sebastes pinniger (canary), S. nebulosus (china), S. caurinus (copper), S. maliger (quillback), S. helvomaculatus (rosethorn), S. nigrocinctus (tiger), and S. ruberrimus (yelloweye).
¹⁵ “Big skate” means Raja binoculata.
¹⁶ “Longnose skate” means Raja rhina.
¹⁷ “Other skates” means Bathyraja spp.

Proposed Apportionment of Reserves

Section 679.20(b)(2) requires NMFS to set aside 20 percent of each TAC for pollock, Pacific cod, flatfish, skates, sharks, squids, sculpins, and octopuses in reserves for possible apportionment at a later date during the fishing year. In 2011, NMFS apportioned all of the reserves in the final harvest specifications. For 2012 and 2013, NMFS proposes reapportionment of all the reserves for pollock, Pacific cod, flatfish, skates, sharks, squids, sculpins, and octopuses. Table 1 reflects the apportionment of reserve amounts for these species and species groups. Each proposed TAC for the above mentioned species categories contains the full TAC recommended by the Council, since no reserve was created from the relevant species categories.

Proposed Apportionments of Pollock TAC Among Seasons and Regulatory Areas, and Allocations for Processing by Inshore and Offshore Components

In the GOA, pollock is apportioned by season and area, and is further allocated between inshore and offshore processing components. Pursuant to § 679.20(a)(5)(iv)(B), the annual pollock TAC specified for the Western and Central Regulatory Areas of the GOA is apportioned into four equal seasonal allowances of 25 percent. As established by § 679.23(d)(2)(i) through (iv), the A, B, C, and D season allowances are available from January 20 through March 10, March 10 through May 31, August 25 through October 1, and October 1 through November 1, respectively.

Pollock TACs in the Western and Central Regulatory Areas of the GOA are apportioned among Statistical Areas 610, 620, and 630, pursuant to § 679.20(a)(5)(iv)(A). In the A and B seasons, the apportionments are in proportion to the distribution of pollock biomass based on the four most recent NMFS winter surveys. In the C and D seasons, the apportionments are in proportion to the distribution of pollock biomass based on the four most recent NMFS summer surveys. For 2012 and 2013, the Council recommends, and NMFS proposes, averaging the winter and summer distribution of pollock in the Central Regulatory Area for the A season. The average is intended to reflect the distribution of pollock and the performance of the fishery in the area during the A season for the 2012 and 2013 fishing years. During the A season, the apportionment is based on an adjusted estimate of the relative distribution of pollock biomass of approximately 23 percent, 56 percent, and 21 percent in Statistical Areas 610, 620, and 630, respectively. During the B season, the apportionment is based on the relative distribution of pollock biomass at 23 percent, 67 percent, and 10 percent in Statistical Areas 610, 620, and 630, respectively. During the C and D seasons, the apportionment is based on the relative distribution of pollock biomass at 41 percent, 27 percent, and 32 percent in Statistical Areas 610, 620, and 630, respectively.

Within any fishing year, the amount by which a seasonal allowance is underharvested or overharvested may be added to, or subtracted from, subsequent seasonal allowances in a manner to be determined by the Regional Administrator (§ 679.20(a)(5)(iv)(B)). The rollover amount is limited to 20 percent of the unharvested seasonal apportionment for the statistical area. Any unharvested pollock above the 20 percent limit could be further distributed to the other statistical areas, in proportion to the estimated biomass in the subsequent season in those statistical areas (§ 679.20(a)(5)(iv)(B)). The proposed pollock TACs in the WYK District of 3,024 mt and SEO District of 9,245 mt for 2012 and 2013 are not allocated by season.

Section 679.20(a)(6)(i) requires the allocation of 100 percent of the pollock TAC in all regulatory areas and all seasonal allowances to vessels catching pollock for processing by the inshore component after subtraction of amounts that are projected by the Regional Administrator to be caught by, or delivered to, the offshore component incidental to directed fishing for other groundfish species. Thus, the amount of pollock available for harvest by vessels harvesting pollock for processing by the offshore component is that amount that will be taken as incidental catch during directed fishing for groundfish species other than pollock, up to the maximum retainable amounts allowed under § 679.20(e) and (f). At this time, these incidental catch amounts of pollock are unknown and will be determined during the fishing year as NMFS monitors the fishing activities in the offshore component.

Table 2 lists the proposed 2012 and 2013 seasonal biomass distribution of pollock in the Western and Central Regulatory Areas, area apportionments, and seasonal allowances. The amounts of pollock for processing by the inshore and offshore components are not shown.

Table 2—Proposed 2012 and 2013 Distribution of Pollock in the Central and Western Regulatory Areas of the Gulf of Alaska; Seasonal Biomass Distribution, Area Apportionments, and Seasonal Allowances of Annual TAC ¹
[Values are rounded to the nearest metric ton]
Season ² | Shumagin (Area 610) |  | Chirikof (Area 620) |  | Kodiak (Area 630) |  | Total
A (Jan 20-Mar 10) | 6,186 | (22.62%) | 15,374 | (56.22%) | 5,783 | (21.15%) | 27,345
B (Mar 10-May 31) | 6,185 | (22.62%) | 18,394 | (67.26%) | 2,765 | (10.11%) | 27,345
C (Aug 25-Oct 1) | 11,280 | (41.25%) | 7,262 | (26.55%) | 8,803 | (32.19%) | 27,345
D (Oct 1-Nov 1) | 11,280 | (41.25%) | 7,262 | (26.55%) | 8,803 | (32.19%) | 27,345
Annual Total ³ | 34,932 |  | 48,293 |  | 26,155 |  | 109,380
¹ Area apportionments and seasonal allowances may not total precisely due to rounding.
² As established by § 679.23(d)(2)(i) through (iv), the A, B, C, and D season allowances are available from January 20 to March 10, March 10 to May 31, August 25 to October 1, and October 1 to November 1, respectively. The amounts of pollock for processing by the inshore and offshore components are not shown in this table.
³ The WYK and SEO District pollock TACs are not allocated by season and are not included in the total pollock TACs shown in this table.

Proposed Annual and Seasonal Apportionments of Pacific Cod

As previously discussed in the preamble, NMFS intends to publish a final rule to implement Amendment 83 to the FMP, with effectiveness anticipated in January 2012. Amendment 83 allocates the Pacific cod TACs in the Western and Central regulatory areas of the GOA among gear and operational sectors. This rule also limits access to the Federal Pacific cod TAC fisheries prosecuted in State waters, known as parallel fisheries, adjacent to the Western and Central GOA. Per these sector allocations, NMFS proposes allocations of the annual Pacific cod TAC between the inshore and offshore components in the Eastern GOA; seasonally between vessels using jig gear, CVs less than 50 feet in length overall using hook-and-line gear, CVs equal to or greater than 50 in length overall using hook-and-line gear, C/Ps using hook-and-line gear, CVs using trawl gear, C/Ps using trawl gear, and vessels using pot gear in the Central GOA; and seasonally between vessels using jig gear, CVs using hook-and-line gear, C/Ps using hook-and-line gear, CVs using trawl gear, and vessels using pot gear in the Western GOA. The overall seasonal apportionments in the Western and Central GOA are 60 percent of the annual TAC to the A season and 40 percent of the annual TAC to the B season. Absent implementation of Amendment 83 in 2011, NMFS would continue to apportion Pacific cod in the Western and Central management areas to the inshore and offshore components pursuant to § 679.20(a)(6)(ii), rather than to specific sectors.

Under § 679.20(a)(12)(ii), any overage or underage of the Pacific cod allowance from the A season will be subtracted from, or added to, the subsequent B season allowance. In addition, per the measures that will be implemented by Amendment 83 to the FMP, any portion of the hook-and-line, trawl, pot, or jig sector allocations that are determined by NMFS as likely to go unharvested by a sector may be reapportioned to other sectors for harvest during the remainder of the fishery year.

NMFS proposes to calculate the 2012 and 2013 Pacific cod TAC allocations in the following manner, according to the anticipated management changes that will be implemented by Amendment 83. First, the jig sector would receive 1.5 percent of the annual Pacific cod TAC in the Western GOA and 1.0 percent of the annual Pacific cod TAC in the Central GOA. The jig sector annual allocation would further be apportioned between the A (60 percent) and B (40 percent) seasons. Should the jig sector harvest 90 percent or more of its allocation in an area during the fishing year, then this allocation would increase by one percent in the subsequent fishing year, up to six percent of the annual TAC. NMFS proposes to allocate the remainder of the annual Pacific cod TAC based on gear type, operation type, and vessel length overall in the Western and Central GOA. Table 3 lists the seasonal apportionments and allocations of the proposed 2012 and 2013 Pacific cod TACs.

Table 3—Proposed 2012 and 2013 Seasonal Apportionments and Allocations of Pacific Cod TAC Amounts to Gear Types, Operational Types, and Vessel Length Overall in the Western and Central Gulf of Alaska and Allocations for Processing by the Inshore and Offshore Components in the Eastern Gulf of Alaska
[Values are rounded to the nearest metric ton]
Regulatory area and sector | Annual allocation (mt) | A Season: Sector % of annual non-jig TAC | A Season: Seasonal allowances (mt) | B Season: Sector % of annual non-jig TAC | B Season: Seasonal allowances (mt)
Western GOA
Jig (1.5% of TAC) | 308 | N/A | 185 | N/A | 123
Hook-and-line CV | 283 | 0.70 | 142 | 0.70 | 142
Hook-and-line C/P | 4,004 | 10.90 | 2,204 | 8.90 | 1,800
Trawl CV | 7,764 | 27.70 | 5,601 | 10.70 | 2,164
Trawl C/P | 485 | 0.90 | 182 | 1.50 | 303
All Pot CV and Pot C/P | 7,684 | 19.80 | 4,004 | 18.20 | 3,680
Total | 20,528 | 60.00 | 12,317 | 40.00 | 8,211
Central GOA
Jig (1.0% of TAC) | 364 | N/A | 218 | N/A | 146
Hook-and-line < 50 CV | 5,257 | 9.32 | 3,354 | 5.29 | 1,903
Hook-and-line ≥ 50 CV | 2,414 | 5.61 | 2,019 | 1.10 | 395
Hook-and-line C/P | 1,838 | 4.11 | 1,478 | 1.00 | 359
Trawl CV | 14,970 | 21.13 | 7,609 | 20.45 | 7,361
Trawl C/P | 1,511 | 2.00 | 721 | 2.19 | 790
All Pot CV and Pot C/P | 10,010 | 17.83 | 6,419 | 9.97 | 3,591
Total | 36,363 | 60.00 | 21,818 | 40.00 | 14,545
Eastern GOA | 1,760 | Inshore (90% of Annual TAC) |  | Offshore (10% of Annual TAC)
|  | 1,584 |  | 176

Proposed Allocations of the Sablefish TAC Amounts to Vessels Using Hook-and-Line and Trawl Gear

Section 679.20(a)(4)(i) and (ii) require allocations of sablefish TACs for each of the regulatory areas and districts to hook-and-line and trawl gear. In the Western and Central Regulatory Areas, 80 percent of each TAC is allocated to hook-and-line gear, and 20 percent of each TAC is allocated to trawl gear. In the Eastern Regulatory Area, 95 percent of the TAC is allocated to hook-and-line gear and five percent is allocated to trawl gear. The trawl gear allocation in the Eastern GOA may only be used to support incidental catch of sablefish in directed fisheries for other target species (§ 679.20(a)(4)(i)). In recognition of the trawl ban in the SEO District of the Eastern Regulatory Area, the Council recommended and NMFS proposes the allocation of five percent of the combined Eastern Regulatory Area sablefish TAC to trawl gear in the WYK District making the remainder of the WYK sablefish TAC available to vessels using hook-and-line gear. As a result, NMFS proposes to allocate 100 percent of the sablefish TAC in the SEO District to vessels using hook-and-line gear. This recommendation results in a proposed 2012 allocation of 226 mt to trawl gear and 4,292 mt to hook-and-line gear in the Eastern GOA. Table 4 lists the allocations of the proposed 2011 sablefish TACs to hook-and-line and trawl gear. Table 5 lists the allocations of the proposed 2013 sablefish TACs to trawl gear.

The Council recommended that the hook-and-line sablefish TAC be established annually to ensure that the Individual Fishery Quota (IFQ) fishery is conducted concurrent with the halibut IFQ fishery and is based on the most recent survey information. The Council also recommended that only the trawl sablefish TAC be established for two years so that retention of incidental catch of sablefish by trawl gear could commence in January in the second year of the groundfish harvest specifications. However, since there is an annual NMFS survey and assessment for sablefish and the final harvest specifications are expected to be published before the IFQ season begins (typically, in early March), the Council recommended that the sablefish TAC be set on an annual basis so that the best and most recent scientific information could be considered in recommending the ABCs and TACs. Since sablefish is closed for directed fishing for trawl gear during the entire fishing year, except those vessels that were provided the Rockfish Program cooperative allocations, and given that fishing for groundfish with trawl gear is prohibited prior to January 20, it is not likely that the sablefish allocation to trawl gear would be reached before the effective date of the final harvest specifications.

Table 4—Proposed 2012 Sablefish TAC Amounts in the Gulf of Alaska and Allocations to Hook-and-Line and Trawl Gear
[Values are rounded to the nearest metric ton]
Area/District | TAC | Hook-and-line allocation | Trawl allocation
Western | 1,484 | 1,187 | 297
Central | 4,343 | 3,474 | 869
West Yakutat ¹ | 1,818 | 1,457 | 361
Southeast Outside | 2,700 | 2,700 | 0
Total | 10,345 | 8,818 | 1,527
¹ The proposed trawl allocation is based on allocating five percent of the combined Eastern Regulatory Area (West Yakutat and Southeast Outside districts combined) sablefish TAC to trawl gear in the West Yakutat district.

Table 5—Proposed 2013 Sablefish TAC Amounts in the Gulf of Alaska and Allocation to Trawl Gear ¹
[Values are rounded to the nearest metric ton]
Area/District | TAC | Hook-and-line allocation | Trawl allocation
Western | 1,484 | n/a | 297
Central | 4,343 | n/a | 869
West Yakutat ² | 1,818 | n/a | 361
Southeast Outside | 2,700 | n/a | 0
Total | 10,345 | n/a | 1,527
¹ The Council recommended that harvest specifications for the hook-and-line gear sablefish Individual Fishing Quota fisheries be limited to 1 year.
² The proposed trawl allocation is based on allocating five percent of the combined Eastern Regulatory Area (West Yakutat and Southeast Outside districts combined) sablefish TAC to trawl gear in the West Yakutat district.

Proposed Apportionments to the Central GOA Rockfish Program

Amendment 88 to the FMP would reauthorize the Central GOA Rockfish Program (Rockfish Program). As discussed previously in the preamble, NMFS published a proposed rule to implement Amendment 88 on August 19, 2011 (76 FR 52148), with anticipated effectiveness in 2012. If approved by the Secretary, NMFS would allocate the primary rockfish species (Pacific ocean perch, northern rockfish, and pelagic shelf rockfish), after deducting for incidental catch needs in other directed groundfish fisheries, to participants in the Rockfish Program. Potential participants in the proposed Rockfish Program include vessels in CV cooperatives, C/P cooperatives, and vessels in the entry-level longline category. Additionally, C/Ps may elect to opt out of the Rockfish Program. Absent implementation of Amendment 88, NMFS would manage the rockfish fisheries in the Central GOA management area under regulations in effect for the other GOA groundfish fisheries managed under the LLP, including permitting requirements at § 679.4(k) and general limitations at § 679.20.

NMFS proposes to allocate 5 mt of Pacific ocean perch, 5 mt of northern rockfish, and 30 mt of PSR to the entry level longline fishery in 2012 and 2013. Longline gear includes hook-and-line, jig, troll, and handline gear. The remainder of the TACs for the primary rockfish species would be allocated to the CV and C/P cooperatives. The allocation for the entry level longline fishery would increase incrementally each year if the sector harvests 90 percent or more of the allocation of a species. The incremental increase in the allocation would continue each year until it reaches the cap for the maximum percent of the TAC for that species. Table 6 lists the proposed 2012 and 2013 allocations for each rockfish primary species to the entry level longline fishery, the incremental increase for future years, and the cap for the entry level longline fishery.

Table 6—Proposed 2012 and 2013 Allocations of Rockfish to the Entry Level Longline Fishery in the Central Gulf of Alaska
Rockfish primary species | Proposed 2012 and 2013 allocations | Incremental increase per season if ≥ 90 percent of allocation is harvested | Up to maximum percent of TAC
Pacific ocean perch | 5 metric tons | 5 metric tons | 1
Northern rockfish | 5 metric tons | 5 metric tons | 2
Pelagic shelf rockfish | 30 metric tons | 20 metric tons | 5

NMFS proposes allocations of primary rockfish species among various components of the proposed Rockfish Program. Table 7 lists the proposed 2012 and 2013 allocations of rockfish in the Central GOA to longline gear in the entry level rockfish fishery and other participants in the proposed program, which include CV and C/P cooperatives. NMFS also proposes setting aside incidental catch amounts (ICAs) for other directed fisheries in the Central GOA of 700 mt of Pacific ocean perch, 125 mt of northern rockfish, and 125 mt of PSR. These amounts are based on recent average incidental catches in the Central GOA by other groundfish fisheries. Allocations between vessels belonging to CV or C/P cooperatives are not included in these proposed harvest specifications. Rockfish Program applications for CV cooperatives, C/P cooperatives, and C/Ps electing to opt out of the program are not due to NMFS until March 1 of each calendar year, thereby preventing NMFS from calculating 2012 and 2013 allocations in conjunction with these proposed harvest specifications. NMFS will post these allocations on the Alaska Region Web site at (http://alaskafisheries.noaa.gov/sustainablefisheries/goarat/default.htm) when they become available after March 1.

Table 7—Proposed 2012 and 2013 Allocations of Rockfish in the Central Gulf of Alaska to the Entry-Level Longline Fishery and Other Participants in the Rockfish Program
[Values are rounded to the nearest metric ton]
Species | TAC | Incidental catch allowance | TAC minus ICA | Initial allocation to the entry level longline ¹ fishery | Other rockfish program participants ² allocation
Pacific ocean perch | 9,884 | 700 | 9,184 | 5 | 9,179
Northern rockfish | 2,168 | 125 | 2,043 | 5 | 2,038
Pelagic shelf rockfish | 2,791 | 125 | 2,666 | 30 | 2,636
Total | 14,843 | 700 | 13,893 | 40 | 13,853
¹ Longline gear includes hook-and-line, jig, troll, and handline gear.
² Other Rockfish Program participants include vessels in CV and C/P cooperatives.

Amendment 88, if approved, would also allocate secondary species to the Rockfish Program in the Central GOA. These species include sablefish from the trawl gear allocation, thornyhead rockfish, Pacific cod for the CV cooperatives, and rougheye and shortraker rockfish for the C/P cooperatives. Table 8 lists the proposed 2012 and 2013 apportionments of rockfish secondary species in the Central GOA to CV and C/P cooperatives.

Table 8—Proposed 2012 and 2013 Apportionments of Rockfish Secondary Species in the Central GOA to CV and C/P Cooperatives
[Values are in metric tons]
Species | Central GOA annual TAC | CV cooperatives: Percentage of TAC | CV cooperatives: Apportionment (mt) | C/P cooperatives: Percentage of TAC | C/P cooperatives: Apportionment (mt)
Pacific cod | 32,362 | 3.81 | 1,385 | N/A | N/A
Sablefish (trawl) | 869 | 6.78 | 59 | 3.51 | 31
Shortraker rockfish | 325 | N/A | N/A | 40.00 | 130
Rougheye rockfish | 868 | N/A | N/A | 58.87 | 511
Thornyhead rockfish | 637 | 7.84 | 50 | 26.50 | 169

Proposed Halibut Prohibited Species Catch (PSC) Limits

Section 679.21(d) establishes annual halibut PSC limit apportionments to trawl and hook-and-line gear, and permits the establishment of apportionments for pot gear. In October 2011, the Council recommended that NMFS maintain the 2011 halibut PSC limits of 2,000 mt for trawl gear and 300 mt for hook-and-line gear for the 2012 and 2013 groundfish fisheries. As discussed previously in this preamble, the Council may take action to modify the GOA halibut PSC limits in 2012, which may lead to adjustments or reductions to the halibut PSC limits proposed in this action either in the latter half of 2012 or at the beginning of 2013.

Ten mt of the 300 mt hook-and-line limit is further allocated to the demersal shelf rockfish (DSR) fishery in the SEO District. The DSR fishery is defined at § 679.21(d)(4)(iii)(A). This fishery has been apportioned 10 mt in recognition of its small scale harvests. Most vessels in the DSR fishery are less than 60 ft (18.3 m) length overall and are exempt from observer coverage. Therefore, observer data are not available to verify actual bycatch amounts. NMFS estimates low halibut bycatch in the DSR fishery because (1) the duration of the DSR fisheries and the gear soak times are short, (2) the DSR fishery occurs in the winter when less overlap occurs in the distribution of DSR and halibut, and, (3) the directed commercial DSR fishery has a low DSR TAC. The Alaska Department of Fish and Game sets the GHL for the DSR fishery after estimates of incidental catch in all fisheries (including halibut and subsistence) and allocation to the sport fish fishery have been deducted. Of the 295 mt TAC for DSR in 2010, 89 mt were available for the directed commercial fishery, of which 22 mt were harvested.

The FMP authorizes the Council to exempt specific gear from the halibut PSC limit. NMFS, after consultation with the Council, proposes to exempt pot gear, jig gear, and the sablefish IFQ hook-and-line gear fishery categories from the non-trawl halibut PSC limit for 2012 and 2013. The Council recommended and NMFS is proposing these exemptions because (1) pot gear fisheries have low annual halibut bycatch mortality (averaging 19 mt annually from 2001 through 2010), (2) IFQ program regulations prohibit discard of halibut if any halibut IFQ permit holder on board a CV holds unused halibut IFQ (§ 679.7(f)(11)), (3) sablefish IFQ fishermen typically hold halibut IFQ permits and are therefore required to retain the halibut they catch while fishing sablefish IFQ, and (4) NMFS estimates negligible halibut mortality for the jig gear fisheries. NMFS estimates halibut mortality is negligible in the jig gear fisheries given the small amount of groundfish harvested by jig gear (averaging 293 mt annually from 2001 through 2010), the selective nature of jig gear, and the high survival rates of halibut caught and released with jig gear.

Section 679.21(d)(5) authorizes NMFS to seasonally apportion the halibut PSC limits after consultation with the Council. The FMP and regulations require that the Council and NMFS consider the following information in seasonally apportioning halibut PSC limits: (1) Seasonal distribution of halibut, (2) seasonal distribution of target groundfish species relative to halibut distribution, (3) expected halibut bycatch needs on a seasonal basis relative to changes in halibut biomass and expected catch of target groundfish species, (4) expected bycatch rates on a seasonal basis, (5) expected changes in directed groundfish fishing seasons, (6) expected actual start of fishing effort, and (7) economic effects of establishing seasonal halibut allocations on segments of the target groundfish industry.

The final 2011 and 2012 harvest specifications (76 FR 11111, March 1, 2011) summarized the Council's and NMFS' findings with respect to halibut PSC for each of these FMP considerations. The Council's and NMFS' findings for 2012 and 2013 are unchanged from 2011. Table 9 lists the proposed 2012 and 2013 Pacific halibut PSC limits, allowances, and apportionments. Section 679.21(d)(5)(iii) and (iv) specify that any underages or overages of a seasonal apportionment of a PSC limit will be deducted from or added to the next respective seasonal apportionment within the fishing year.

Table 9—Proposed 2012 and 2013 Pacific Halibut PSC Limits, Allowances, and Apportionments
[Values are in metric tons]
Trawl gear: Season | Trawl gear: Percent | Trawl gear: Amount | Hook-and-line gear ¹: Other than DSR: Season | Hook-and-line gear ¹: Other than DSR: Percent | Hook-and-line gear ¹: Other than DSR: Amount | Hook-and-line gear ¹: DSR: Season | Hook-and-line gear ¹: DSR: Amount
January 20-April 1 | 27.5 | 550 | January 1-June 10 | 86 | 250 | January 1-December 31 | 10
April 1-July 1 | 20 | 400 | June 10-September 1 | 2 | 5 |  |
July 1-September 1 | 30 | 600 | September 1-December 31 | 12 | 35 |  |
September 1-October 1 | 7.5 | 150 |  |  |  |  |
October 1-December 31 | 15 | 300 |  |  |  |  |
Total |  | 2,000 |  |  | 290 |  | 10
¹ The Pacific halibut PSC limit for hook-and-line gear is allocated to the demersal shelf rockfish (DSR) fishery and fisheries other than DSR. The hook-and-line IFQ sablefish fishery is exempt from halibut PSC limits, as are pot and jig gear for all groundfish fisheries.

Section 679.21(d)(3)(ii) authorizes further apportionment of the trawl halibut PSC limit to trawl fishery categories. The annual apportionments are based on each category's proportional share of the anticipated halibut bycatch mortality during a fishing year and optimization of the total amount of groundfish harvest under the halibut PSC limit. The fishery categories for the trawl halibut PSC limits are (1) a deep-water species category, composed of sablefish, rockfish, deep-water flatfish, rex sole, and arrowtooth flounder; and (2) a shallow-water species category, composed of pollock, Pacific cod, shallow-water flatfish, flathead sole, Atka mackerel, skates, sharks, squids, sculpins, and octopuses (§ 679.21(d)(3)(iii)). Table 10 lists the proposed 2012 and 2013 seasonal apportionments of Pacific halibut PSC trawl limits between the deep-water and the shallow-water species categories. Based on public comment and information presented in the final 2011 SAFE report, the Council may recommend or NMFS may make changes to the seasonal, gear-type, or fishery category apportionments of halibut PSC limits for the final 2012 and 2013 harvest specifications.

Table 10—Proposed 2012 and 2013 Seasonal Apportionments of the Pacific Halibut PSC Limit Apportioned Between the Trawl Gear Shallow-Water Species and Deep-Water Species Categories
([Values are in metric tons]
Season | Shallow-water | Deep-water ¹ | Total
January 20-April 1 | 450 | 100 | 550
April 1-July 1 | 100 | 300 | 400
July 1-September 1 | 200 | 400 | 600
September 1—October 1 | 150 | Any remainder | 150
Subtotal, January 20-October 1 | 900 | 800 | 1,700
October 1-December 31 ² |  |  | 300
Total |  |  | 2,000
¹ Vessels participating in cooperatives in the Central Gulf of Alaska Rockfish Program will receive a portion of the third season (July 1 through September 1) deep-water category halibut PSC apportionment. This amount is not currently known but will be posted on the Alaska Region Web site at http://alaskafisheries.noaa.gov when it becomes available.
² There is no apportionment between shallow-water and deep-water trawl fishery categories during the fifth season (October 1 through December 31).

According to the provisions of Amendment 83 to the FMP, the pending action that establishes Pacific cod sector splits, the “other than DSR” halibut PSC apportionment to vessels using hook-and-line gear must be apportioned between CVs and C/Ps. To calculate the halibut PSC apportionments to the hook-and-line CV and C/P sectors annually, NMFS must first scale the total hook-and-line CV and C/P percentage sector allocations in proportion to the relative size of the Pacific cod TAC area apportionments on an annual basis. This is because the Pacific cod TAC allocations to each regulatory area may change depending on the stock status in each area, as determined by the biennial surveys. NMFS proposes to apportion the GOA hook-and-line halibut PSC limit for the “other than DSR” category to the hook-and-line CV and C/P sectors in proportion to the scaled hook-and-line sector allocations. These sum to 10.4 percent to the hook-and-line C/P sector and 14.1 percent to the hook-and-line CV sector in the Western and Central Regulatory Areas in the GOA, as explained in the final rule associated with Amendment 83 (76 FR 74760, December 1, 2011).

Ten mt of the overall 300 mt hook-and-line PSC limit is allocated to the DSR fishery, leaving 290 mt to be allocated between the hook-and-line CVs and C/Ps. To calculate the annual hook-and-line allocations of the PSC limit, NMFS would multiply the scaled annual allocations of TAC by the 290 mt “non-demersal shelf rockfish” hook-and-line PSC limit. For 2012 and 2013 NMFS proposes that hook-and-line CV and hook-and-line C/P sectors receive annual halibut PSC limits of 167 mt and 123 mt, respectively. In addition, these annual limits are divided between three seasonal apportionments, using seasonal percentages of 86 percent, 2 percent, and 12 percent. These annual limits and seasonal apportionments are shown in Table 11.

No later than November 1 of each year, NMFS would calculate the projected unused amount of halibut PSC limit by either of the hook-and-line sectors for the remainder of the year. The projected unused amount of halibut PSC limit would be made available to the other hook-and-line sector for the remainder of that fishing year.

Table 11—Proposed 2012 and 2013 Hook-and-Line (HAL) Halibut Prohibited Species Catch (PSC) Limits and Seasonal Apportionments by Sectors for the Gulf of Alaska Groundfish Fisheries
[Values are rounded to the nearest metric ton and percentages are rounded to the nearest 0.1 percent]
Operational type | Sum of percent | Relative percent between C/P and CV | Annual PSC limit | 1st Season PSC limit | 2nd Season PSC limit | 3rd Season PSC limit
HAL C/P | 10.4 | 42.4 | 123 | 106 | 2 | 15
HAL CV | 14.1 | 57.6 | 167 | 144 | 3 | 20

The Rockfish Program, if approved, would require NMFS to allocate a fixed amount of the halibut PSC third seasonal apportionment to the deep-water species category to participants in the Rockfish Program. This amount is based on 87.5 percent of the 2000 through 2006 average halibut mortality usage of 218.8 mt. Of this amount, 134.1 mt of the halibut PSC is proposed to be allocated to the CV sector and 84.7 mt is proposed to be allocated to the C/P sector. Additionally, 27.4 mt (16.8 mt from the CV sector and 10.6 mt from the C/P sector) would be permanently removed from the annual apportionment for fisheries using trawl gear in the GOA. This would result in 117.3 mt of halibut PSC limit being available for use in the Rockfish Program by the CV sector and 74.1 mt available for use by the C/P sector.

NMFS anticipates that additional halibut PSC limits for the Rockfish Program will be implemented by Amendment 88. The proposed regulations associated with the reauthorized Rockfish Program (76 FR 52148, August 19, 2011) would limit the amount of the halibut PSC limit allocated to Rockfish Program participants that could be re-apportioned to the general GOA trawl fisheries. This would restrict halibut PSC limit reallocation to the non-Rockfish Program trawl fisheries from the Rockfish Program to no more than 55 percent of the unused annual halibut PSC apportioned to Rockfish Program participants. The remainder of the unused Rockfish Program halibut PSC limit would be unavailable for use by vessels directed fishing with trawl gear for the remainder of the fishing year. The pending final rule associated with the implementation of Amendment 88 does not change the halibut PSC limits described in the proposed rule for Amendment 88.

Estimated Halibut Bycatch in Prior Years

The best available information on estimated halibut bycatch is data collected by observers during 2011. The calculated halibut bycatch mortality by trawl, hook-and-line, and pot gears through October 1, 2011, is 1,319 mt, 185 mt, and 50 mt, respectively, for a total halibut mortality of 1,554 mt. This halibut mortality was calculated using groundfish and halibut catch data from the NMFS Alaska Region's catch accounting system. This system contains historical and recent catch information compiled from each Alaska groundfish fishery.

Halibut bycatch restrictions seasonally constrained trawl gear fisheries during the 2011 fishing year. Table 12 displays the closure dates for fisheries that resulted from the attainment of seasonal or annual halibut PSC limits. NMFS does not know the amount of groundfish that trawl gear might have harvested if halibut PSC limits had not restricted some 2011 GOA groundfish fisheries.

Table 12—2011 Fishery Closures Due to Attainment of Pacific Halibut PSC Limits
Fishery category | Opening date | Closure date | Federal Register Citation
Trawl Deep-water, season 2 | January 20, 2011 | April 22, 2011 | 76 FR 23511, April 27, 2011.
Trawl Shallow-water,¹ season 4 | September 1, 2011 | September 3, 2011 | 76 FR 55276, September 7, 2011.
Trawl Shallow-water,¹ season 4 | September 14, 2011 | September 16, 2011 | 76 FR 57679, September 16, 2011.
Trawl Shallow-water,¹ season 4 | September 20, 2011 | Remained open through end of season 4, October 1, 2011 |
Hook-and-line gear, all targets.² | January 1, 2011 | Remains open. |
¹ With the exception of vessels participating in the Central GOA Rockfish Program and vessels fishing for pollock using pelagic trawl gear.
² With the exception of the IFQ sablefish fishery, which is open March 12, 2011, through November 18, 2011.

Current Estimates of Halibut Biomass and Stock Condition

The most recent halibut stock assessment was developed by the International Pacific Halibut Commission (IPHC) staff in December 2010 for the 2011 commercial fishery; this assessment was considered by the IPHC at its annual meeting in January 2011. Since 2006, the IPHC stock assessment has been fitted to a coastwide data set (including the United States and Canada) to estimate total biomass. Coastwide total halibut biomass at the beginning of 2011 was estimated to be 317 million pounds (143,790 mt), down from 334 million pounds (151,500 mt) in 2010. The coastwide total halibut biomass was apportioned among regulatory areas in accordance with survey estimates of relative abundance and other considerations.

The halibut resource is fully utilized. Recent catches in the commercial halibut fisheries in Alaska over the last 17 years (1994-2010) have averaged 32,336 mt round weight per year. In January 2011, the IPHC recommended Alaska commercial catch limits totaling 19,662 mt for 2011, a 25 percent decrease from 24,372 mt in 2010. Through December 31, 2010, commercial hook-and-line harvests of halibut off Alaska totaled 24,118 mt round weight.

The IPHC and its staff have expressed concerns that the IPHC's Slow Up-Fast Down (SUFD) harvest policy adjustments, which applied a policy of a 33 percent increase from the previous year's catch limit and a 50 percent decrease in recommended catch, have not achieved target harvest rate goals due to continued stock declines, decreases in halibut growth rate, and a recent history of high exploitation rates in some areas. The IPHC adopted the staff's recommendation that the SUFD policy be modified to a “Slow Up-Full Down (SUFullD)” policy to achieve the necessary reductions in harvest rate and promote increases in total halibut biomass. The SUFullD policy incorporates the existing policy of a 33 percent increase from the previous year's catch limits when stock yields are expected to increase but uses a 100 percent decrease in recommended catch when stock yields are projected to decrease.

The largest decreases in the 2011 catch limit recommendations in Alaska are for Area 2C, down from 2,661 mt round weight in 2010 to 1,409 mt round weight in 2011 (the decline is primarily the result of the application of the SUFullD harvest policy adjustment), and, for Areas 3A and 3B combined, down from 18,077 mt round weight in 2010 to 13,233 mt round weight in 2011 (the decline is primarily due to a decline in estimated total halibut biomass).

Additional information on the Pacific halibut stock assessment may be found in the IPHC's 2010 Pacific halibut stock assessment (December 2010), available on the IPHC Web site at http://www.iphc.washington.edu. The IPHC will consider the 2011 Pacific halibut assessment at its January 2012 annual meeting when it will set the 2012 commercial halibut fishery catch limits.

Other Considerations Associated With Halibut PSC

The IPHC will adjust the allowable commercial catch of halibut to account for the overall halibut PSC limit established for groundfish fisheries. The 2012 and 2013 groundfish fisheries are expected to use the entire proposed annual halibut PSC limit, whether that amount is 2,300 mt as proposed under the status quo, or some lesser amount that may be selected and implemented under the Council's pending halibut PSC action. The allowable directed commercial catch is determined by first accounting for recreational and subsistence catch, waste, and bycatch mortality, and then provides the remainder to the directed fishery. Groundfish fishing is not expected to affect adversely the halibut stocks. Methods available for reducing halibut bycatch include (1) consistent monitoring through publication of vessel specific bycatch rates on the NMFS Alaska Region Web site at http://alaskafisheries.noaa.gov, (2) modifications to gear, (3) changes in groundfish fishing seasons, (4) individual transferable quota programs, and (5) time/area closures.

With respect to fishing gear modifications, various regulations have been implemented to address halibut bycatch concerns that are associated with different gear types. The definitions of the various gear types defined at § 679.2 under “Authorized fishing gear” delineate a variety of different requirements and restrictions by gear type. Many of these requirements are intended to decrease or minimize halibut bycatch by pot, trawl, and hook-and-line gear.

For example, groundfish pots must be constructed with biodegradable panels and tunnel openings to reduce halibut bycatch, thereby reducing halibut mortality in the groundfish pot fisheries. Further, the definition of “pelagic trawl gear” includes specific construction parameters and performance characteristics that distinguish it from nonpelagic trawl gear, which is designed for use in proximity to the seafloor. Because halibut bycatch by pelagic trawl gear is minimal, directed fishing for pollock with pelagic trawl gear may continue even when the halibut PSC limit for the shallow-water species fishery is reached (see § 679.21(d)(7)(i)). Finally, all hook-and-line vessel operators are required to employ careful release measures when handling halibut bycatch (§ 679.7(a)(13)). These measures are intended to reduce handling mortality, thereby lowering overall halibut bycatch mortality in the groundfish fisheries, and to increase the amount of groundfish harvested under the available halibut mortality bycatch limits.

The FMP requires that the Council review recent halibut bycatch data and recommend proposed halibut PSC limits in conjunction with developing proposed groundfish harvest levels. NMFS and the Council will review the methods available for reducing halibut bycatch listed here to determine their effectiveness and will initiate changes, as necessary, in response to this review or to public testimony and comment.

Halibut Discard Mortality Rates

To monitor halibut bycatch mortality allowances and apportionments, the Regional Administrator uses observed halibut bycatch rates, discard mortality rates (DMRs), and estimates of groundfish catch to project when a fishery's halibut bycatch mortality allowance or seasonal apportionment is reached. The DMRs are based on the best information available, including information contained in the annual SAFE report.

NMFS proposes the Council's recommendation that the halibut DMRs developed and recommended by the IPHC for the 2011 GOA groundfish fisheries be used for monitoring the proposed 2012 and 2013 halibut bycatch mortality allowances (see Tables 9-11). The IPHC developed the DMRs for the 2011 GOA groundfish fisheries using the 10-year mean DMRs for those fisheries. Long-term average DMRs were not available for some fisheries, so rates from the most recent years were used. For the squid, shark, sculpin, octopus, and skate fisheries, where insufficient mortality data are available, the mortality rate of halibut caught in the Pacific cod fishery for that gear type was recommended as a default rate. The IPHC will analyze observer data annually and recommend changes to the DMRs when a fishery DMR shows large variation from the mean. A discussion of the DMRs and their justification is presented in Appendix 2 to the 2010 SAFE report (see ADDRESSES). Table 13 lists the proposed 2012 and 2013 DMRs.

Table 13—Proposed 2012 and 2013 Halibut Discard Mortality Rates for Vessels Fishing in the Gulf of Alaska
[Values are percent of halibut assumed to be dead]
Gear | Target fishery | Mortality rate (%)
Hook-and-line | Other fisheries ¹ | 12
| Skates | 12
| Pacific cod | 12
| Rockfish | 9
Trawl | Arrowtooth flounder | 72
| Deep-water flatfish | 48
| Flathead sole | 65
| Non-pelagic pollock | 59
| Other fisheries | 62
| Pacific cod | 62
| Pelagic pollock | 76
| Rex sole | 64
| Rockfish | 67
| Sablefish | 65
| Shallow-water flatfish | 71
Pot | Other fisheries | 17
| Pacific cod | 17
¹ Other fisheries includes all gear types for Atka mackerel, sculpins, sharks, skates, squids, octopuses, and hook-and-line sablefish.

American Fisheries Act (AFA) Catcher/Processor and Catcher Vessel Groundfish Sideboard Limits

Section 679.64 establishes groundfish harvesting and processing sideboard limits on AFA C/Ps and CVs in the GOA. These sideboard limits are necessary to protect the interests of fishermen and processors who do not directly benefit from the AFA from those fishermen and processors who receive exclusive harvesting and processing privileges under the AFA. Section 679.7(k)(1)(ii) prohibits listed AFA C/Ps from harvesting any species of fish in the GOA. Additionally, § 679.7(k)(1)(iv) prohibits listed AFA C/Ps from processing any pollock harvested in a directed pollock fishery in the GOA and any groundfish harvested in Statistical Area 630 of the GOA.

AFA CVs that are less than 125 ft (38.1 meters) length overall, have annual landings of pollock in the Bering Sea and Aleutian Islands of less than 5,100 mt, and have made at least 40 landings of GOA groundfish from 1995 through 1997 are exempt from GOA sideboard limits under § 679.64(b)(2)(ii). Sideboard limits for non-exempt AFA CVs operating in the GOA are based on their traditional harvest levels of TAC in groundfish fisheries covered by the FMP. Section 679.64(b)(3)(iii) establishes the groundfish sideboard limitations in the GOA based on the retained catch of non-exempt AFA CVs of each sideboard species from 1995 through 1997 divided by the TAC for that species over the same period.

As provided by Amendment 83 to the FMP (76 FR 44700, July 26, 2011), NMFS proposes to recalculate and establish sideboards limitations for Pacific cod for the non-exempt AFA CVs in the Western and Central GOA that would supersede the inshore offshore and offshore processing sideboards established under the AFA. The sideboard limits for other species would continue to be calculated as they have in the past, including the Eastern GOA sideboard limit. Table 14 lists the proposed 2012 and 2013 groundfish sideboard limits for non-exempt AFA CVs. NMFS will deduct all targeted or incidental catch of sideboard species made by non-exempt AFA CVs from the sideboard limits listed in Table 14. Absent implementation of Amendment 83, these sideboards would calculated and managed per the status quo, i.e., with specific inshore and offshore sideboards, including those established for 2012 by the final GOA 2011 and 2012 harvest specifications (76 FR 11111, March 1, 2011).

Table 14—Proposed 2012 and 2013 GOA Non-Exempt American Fisheries Act Catcher Vessel (CV) Groundfish Harvest Sideboard Limits
[Values are rounded to the nearest metric ton]
Species | Apportionments by season/gear | Area/component | Ratio of 1995-1997 non-exempt AFA CV catch to 1995-1997 TAC | Proposed 2012 and 2013 TACs | Proposed 2012 and 2013 non-exempt AFA CV sideboard limit
Pollock | A Season—January 20-March 10 | Shumagin (610) | 0.6047 | 6,186 | 3,741
|  | Chirikof (620) | 0.1167 | 15,374 | 1,794
|  | Kodiak (630) | 0.2028 | 5,783 | 1,173
| B Season—March 10-May 31 | Shumagin (610) | 0.6047 | 6,185 | 3,740
|  | Chirikof (620) | 0.1167 | 18,392 | 2,147
|  | Kodiak (630) | 0.2028 | 2,765 | 561
| C Season—August 25-October 1 | Shumagin (610) | 0.6047 | 11,280 | 6,821
|  | Chirikof (620) | 0.1167 | 7,262 | 847
|  | Kodiak (630) | 0.2028 | 8,803 | 1,785
| D Season—October 1-November 1 | Shumagin (610) | 0.6047 | 11,280 | 6,821
|  | Chirikof (620) | 0.1167 | 7,262 | 847
|  | Kodiak (630) | 0.2028 | 8,803 | 1,785
| Annual | WYK (640) | 0.3495 | 3,024 | 1,057
|  | SEO (650) | 0.3495 | 9,245 | 3,231
Pacific cod | A Season ¹—January 1-June 10 | W | 0.1331 | 12,317 | 1,639
|  | C | 0.0692 | 21,818 | 1,510
| B Season ²—September 1-December 31 | W | 0.1331 | 8,211 | 1,093
|  | C | 0.0692 | 14,545 | 1,007
| Annual | E inshore | 0.0079 | 1,583 | 13
|  | E offshore | 0.0078 | 176 | 1
Sablefish | Annual, trawl gear | W | 0.0000 | 297 | 0
|  | C | 0.0642 | 869 | 56
|  | E | 0.0433 | 226 | 10
Flatfish, Shallow-water | Annual | W | 0.0156 | 23,681 | 369
|  | C | 0.0587 | 29,999 | 1,761
|  | E | 0.0126 | 2,562 | 32
Flatfish, deep-water | Annual | W | 0.0000 | 541 | 0
|  | C | 0.0647 | 3,004 | 194
|  | E | 0.0128 | 2,941 | 38
Rex sole | Annual | W | 0.0007 | 1,490 | 1
|  | C | 0.0384 | 6,184 | 237
|  | E | 0.0029 | 1,722 | 5
Arrowtooth flounder | Annual | W | 0.0021 | 33,975 | 71
|  | C | 0.0280 | 143,119 | 4,007
|  | E | 0.0002 | 33,933 | 7
Flathead sole | Annual | W | 0.0036 | 17,968 | 65
|  | C | 0.0213 | 28,938 | 616
|  | E | 0.0009 | 3,693 | 3
Pacific Ocean perch | Annual | W | 0.0023 | 2,665 | 6
|  | C | 0.0748 | 9,884 | 739
|  | E | 0.0466 | 3,638 | 170
Northern rockfish | Annual | W | 0.0003 | 2,446 | 1
|  | C | 0.0277 | 2,168 | 60
Shortraker rockfish | Annual | W | 0.0000 | 134 | 0
|  | C | 0.0218 | 325 | 7
|  | E | 0.0110 | 455 | 5
Other rockfish | Annual | W | 0.0034 | 224 | 0
|  | C | 0.1699 | 566 | 96
|  | E | 0.0000 | 3,052 | 0
Pelagic shelf rockfish | Annual | W | 0.0001 | 558 | 0
|  | C | 0.0000 | 2,791 | 0
|  | E | 0.0067 | 998 | 7
Rougheye rockfish | Annual | W | 0.0000 | 81 | 0
|  | C | 0.0237 | 868 | 21
|  | E | 0.0124 | 363 | 5
Demersal shelf rockfish | Annual | SEO | 0.0020 | 300 | 1
Thornyhead rockfish | Annual | W | 0.0280 | 425 | 12
|  | C | 0.0280 | 637 | 18
|  | E | 0.0280 | 708 | 20
Atka mackerel | Annual | Gulfwide | 0.0309 | 4,700 | 145
Big skates | Annual | W | 0.0063 | 598 | 4
|  | C | 0.0063 | 2,049 | 13
|  | E | 0.0063 | 681 | 4
Longnose skates | Annual | W | 0.0063 | 81 | 0
|  | C | 0.0063 | 2,009 | 13
|  | E | 0.0063 | 762 | 5
Other skates | Annual | Gulfwide | 0.0063 | 2,093 | 13
Squids | Annual | Gulfwide | 0.0063 | 1,148 | 7
Sharks | Annual | Gulfwide | 0.0063 | 6,197 | 39
Octopuses | Annual | Gulfwide | 0.0063 | 954 | 6
Sculpins | Annual | Gulfwide | 0.0063 | 5,496 | 35
¹ The Pacific cod A season for trawl gear does not open until January 20.
² The Pacific cod B season for trawl gear closes November 1.

Non-Exempt AFA Catcher Vessel Halibut PSC Limits

The halibut PSC sideboard limits for non-exempt AFA CVs in the GOA are based on the aggregate retained groundfish catch by non-exempt AFA CVs in each PSC target category from 1995 through 1997 divided by the retained catch of all vessels in that fishery from 1995 through 1997 (§ 679.64(b)(4)). Table 15 lists the proposed 2012 and 2013 non-exempt AFA CV halibut PSC limits for vessels using trawl gear in the GOA.

Table 15—Proposed 2012 and 2013 Non-Exempt American Fisheries Act Catcher Vessel Halibut Prohibited Species Catch (PSC) Limits for Vessels Using Trawl Gear in the GOA
[PSC limits are rounded to the nearest whole metric ton]
Season | Season dates | Target fishery | Ratio of 1995-1997 non-exempt AFA CV retained catch to total retained catch | Proposed 2012 and 2013 PSC limit | Proposed 2012 and 2013 non-exempt AFA CV PSC limit
1 | January 20-April 1 | shallow-water | 0.340 | 450 | 153
|  | deep-water | 0.070 | 100 | 7
2 | April 1-July 1 | shallow-water | 0.340 | 100 | 34
|  | deep-water | 0.070 | 300 | 21
3 | July 1-September 1 | shallow-water | 0.340 | 200 | 68
|  | deep-water | 0.070 | 400 | 28
4 | September 1-October 1 | shallow-water | 0.340 | 150 | 51
|  | deep-water | 0.070 | 0 | 0
5 | October 1-December 31 | all targets | 0.205 | 300 | 62

Non-AFA Crab Vessel Groundfish Sideboard Limits

Section 680.22 establishes groundfish catch limits for vessels with a history of participation in the Bering Sea snow crab fishery to prevent these vessels from using the increased flexibility provided by the Crab Rationalization Program to expand their level of participation in the GOA groundfish fisheries. Sideboard limits restrict these vessels' catch to their collective historical landings in all GOA groundfish fisheries (except the fixed-gear sablefish fishery). Sideboard limits also apply to landings made using an LLP license derived from the history of a restricted vessel, even if that license is used on another vessel.

Vessels exempt from Pacific cod sideboards are those that landed less than 45,359 kilograms of Bering Sea snow crab and more than 500 mt of groundfish (in round weight equivalents) from the GOA between January 1, 1996, and December 31, 2000, and any vessel named on an LLP license that was based in whole or in part on the fishing history of a vessel meeting the criteria in § 680.22(a)(3).

Sideboard limits for non-AFA crab vessels operating in the GOA are based on their traditional harvest levels of TAC in groundfish fisheries covered by the FMP. Section 680.22(d) and (e) base the groundfish sideboard limits in the GOA on the retained catch by non-AFA crab vessels of each sideboard species from 1996 through 2000 divided by the total retained harvest of that species over the same period.

NMFS issued a final rule on June 20, 2011 (76 FR 35772), to implement Amendment 34 to the Fishery Management Plan for Bering Sea/Aleutian Islands King and Tanner Crabs. Amendment 34 amended the Bering Sea and Aleutian Islands Crab Rationalization Program to exempt additional recipients of crab quota share from GOA pollock and Pacific cod sideboards. Such sideboards apply to some vessels and LLP licenses that are used to participate in these two fisheries. The sideboard ratios for pollock are unchanged. The sideboard ratios for Pacific cod in the Western GOA were changed under Amendment 34. However, those changes have been superseded by the Pacific cod sector splits implemented by the pending final rule for Amendment 83, which includes dividing the Pacific cod sideboards among applicable industry sectors.

Under the pending final rule for Amendment 83, the non-AFA crab vessel sideboards for the inshore and offshore components in the Western and Central GOA were combined. These combined sideboards must then be allocated per the sector allocations established under Amendment 83. Thus, NMFS proposes to specify sideboards limitations in the Pacific cod fisheries for the non-AFA crab vessels in the Western and Central GOA that supersede the original inshore offshore and offshore processing sideboards established under the Crab Rationalization Program. Table 16 lists these proposed 2012 and 2013 groundfish sideboard limitations for non-AFA crab vessels. All targeted or incidental catch of sideboard species made by non-AFA crab vessels or associated LLP licenses will be deducted from these sideboard limits. Absent implementation of Amendment 83, these sideboards would be calculated and managed per the status quo, i.e., with the specific inshore and offshore sideboards established for 2012 by the final GOA 2011 and 2012 harvest specifications (76 FR 11111, March 1, 2011), rather than sector-specific sideboards.

Table 16—Proposed 2012 and 2013 GOA Non-American Fisheries Act Crab Vessel Groundfish Harvest Sideboard Limits
[Values are rounded to the nearest metric ton]
Species | Season/gear | Area/component/ gear | Ratio of 1996-2000 non-AFA crab vessel catch to 1996-2000 total harvest | Proposed 2012 and 2013 TACs | Proposed 2012 and 2013 non-AFA crab vessel sideboard limit
Pollock | A Season | Shumagin (610) | 0.0098 | 6,186 | 61
| January 20-March 10 | Chirikof (620) | 0.0031 | 15,374 | 48
|  | Kodiak (630) | 0.0002 | 5,783 | 1
| B Season | Shumagin (610) | 0.0098 | 6,185 | 61
| March 10-May 31 | Chirikof (620) | 0.0031 | 18,393 | 57
|  | Kodiak (630) | 0.0002 | 2,765 | 1
| C Season | Shumagin (610) | 0.0098 | 11,280 | 111
| August 25-October 1 | Chirikof (620) | 0.0031 | 7,262 | 23
|  | Kodiak (630) | 0.0002 | 8,803 | 2
| D Season | Shumagin (610) | 0.0098 | 11,280 | 111
| October 1-November 1 | Chirikof (620) | 0.0031 | 7,262 | 23
|  | Kodiak (630) | 0.0002 | 8,803 | 2
| Annual | WYK (640) | 0.0000 | 3,024 | 0
|  | SEO (650) | 0.0000 | 9,245 | 0
Pacific cod | A Season¹ | W Jig CV | 0.0000 | 12,317 | 0
|  | W Hook-and-line CV | 0.0003 | 12,317 | 4
| January 1-June 10 | W Hook-and-line C/P | 0.0015 | 12,317 | 18
|  | W Pot CV | 0.0816 | 12,317 | 1,005
|  | W Pot C/P | 0.0064 | 12,317 | 79
|  | W Trawl CV | 0.0060 | 12,317 | 74
|  | C Jig CV | 0.0000 | 21,818 | 0
|  | C Hook-and-line CV | 0.0001 | 21,818 | 2
|  | C Hook-and-line C/P | 0.0000 | 21,818 | 0
|  | C Pot CV | 0.0354 | 21,818 | 772
|  | C Pot C/P | 0.0092 | 21,818 | 201
|  | C Trawl CV | 0.0010 | 21,818 | 22
| B Season ² | W Jig CV | 0.0000 | 8,211 | 0
|  | W Hook-and-line CV | 0.0003 | 8,211 | 2
|  | W Hook-and-line C/P | 0.0015 | 8,211 | 12
| September 1-December 31 | W Pot CV | 0.0816 | 8,211 | 670
|  | W Pot C/P | 0.0064 | 8,211 | 53
|  | W Trawl CV | 0.0060 | 8,211 | 49
|  | C Jig CV | 0.0000 | 14,546 | 0
|  | C Hook-and-line CV | 0.0001 | 14,546 | 1
|  | C Hook-and-line C/P | 0.0000 | 14,546 | 0
|  | C Pot CV | 0.0354 | 14,546 | 515
|  | C Pot C/P | 0.0092 | 14,546 | 134
|  | C Trawl CV | 0.0010 | 14,546 | 15
| Annual | E inshore | 0.0110 | 1,584 | 17
|  | E offshore | 0.0000 | 176 | 0
Sablefish | Annual, trawl gear | W | 0.0000 | 297 | 0
|  | C | 0.0000 | 869 | 0
|  | E | 0.0000 | 226 | 0
Flatfish, shallow-water | Annual | W | 0.0059 | 23,681 | 140
|  | C | 0.0001 | 29,999 | 3
|  | E | 0.0000 | 2,562 | 0
Flatfish, deep-water | Annual | W | 0.0035 | 541 | 2
|  | C | 0.0000 | 3,004 | 0
|  | E | 0.0000 | 2,941 | 0
Rex sole | Annual | W | 0.0000 | 1,490 | 0
|  | C | 0.0000 | 6,184 | 0
|  | E | 0.0000 | 1,722 | 0
Arrowtooth flounder | Annual | W | 0.0004 | 33,975 | 14
|  | C | 0.0001 | 143,119 | 14
|  | E | 0.0000 | 33,933 | 0
Flathead sole | Annual | W | 0.0002 | 17,960 | 4
|  | C | 0.0004 | 28,938 | 12
|  | E | 0.0000 | 3,693 | 0
Pacific ocean perch | Annual | W | 0.0000 | 2,665 | 0
|  | C | 0.0000 | 9,884 | 0
|  | E | 0.0000 | 3,638 | 0
Northern rockfish | Annual | W | 0.0005 | 2,446 | 1
|  | C | 0.0000 | 2,168 | 0
Shortraker rockfish | Annual | W | 0.0013 | 134 | 0
|  | C | 0.0012 | 325 | 0
|  | E | 0.0009 | 455 | 0
Other Rockfish | Annual | W | 0.0035 | 224 | 1
|  | C | 0.0033 | 566 | 2
|  | E | 0.0000 | 3,052 | 0
Pelagic shelf rockfish | Annual | W | 0.0017 | 558 | 1
|  | C | 0.0000 | 2,791 | 0
|  | E | 0.0000 | 998 | 0
Rougheye | Annual | W | 0.0067 | 81 | 1
|  | C | 0.0047 | 868 | 4
|  | E | 0.0008 | 363 | 0
Demersal shelf rockfish | Annual | SEO | 0.0000 | 300 | 0
Thornyhead Rockfish | Annual | W | 0.0047 | 425 | 2
|  | C | 0.0066 | 637 | 4
|  | E | 0.0045 | 708 | 3
Atka mackerel | Annual | Gulfwide | 0.0000 | 4,700 | 0
Big skate | Annual | W | 0.0392 | 598 | 23
|  | C | 0.0159 | 2,049 | 33
|  | E | 0.0000 | 681 | 0
Longnose skate | Annual | W | 0.0392 | 81 | 3
|  | C | 0.0159 | 2,009 | 32
|  | E | 0.0000 | 762 | 0
Other skates | Annual | Gulfwide | 0.0176 | 2,093 | 37
Sharks | Annual | Gulfwide | 0.0176 | 6,197 | 109
Squids | Annual | Gulfwide | 0.0176 | 1,148 | 20
Octopuses | Annual | Gulfwide | 0.0176 | 954 | 17
Sculpins | Annual | Gulfwide | 0.0176 | 5,496 | 97
¹ The Pacific cod A season for trawl gear does not open until January 20.
² The Pacific cod B season for trawl gear closes November 1.

Rockfish Program Groundfish Sideboard and Halibut PSC Limitations

Amendment 88 to the FMP would reauthorize the Rockfish Program, as previously described in the preamble. If approved, this amendment would establish three classes of sideboard provisions: CV groundfish sideboard restrictions, C/P rockfish sideboard restrictions, and C/P opt-out vessel sideboard restrictions. These sideboards are intended to limit the ability of rockfish harvesters to expand into other fisheries. A full description of the Rockfish Program sideboard provisions is contained in the proposed rule to implement Amendment 88 (76 FR 52148, August 19, 2011), including the proposed regulations that would establish the following limitations. Absent implementation of Amendment 88, these sideboards would not need to be calculated, as there would not be an applicable Rockfish Program fisheries or participants to which sideboards would apply. As described earlier in the preamble, the Central GOA rockfish fisheries would revert to being managed under the general limitations proscribed for the GOA groundfish fisheries, rather than with fisheries cooperatives and specific allocations.

CVs participating in the Rockfish Program may not participate in directed fishing for northern rockfish, Pacific ocean perch, and pelagic shelf rockfish in the Western GOA and West Yakutat Districts from July 1 through July 31. Furthermore, CVs may not participate in directed fishing for arrowtooth flounder, deep-water flatfish, and rex sole in the GOA from July 1 through July 31.

Amendment 88 also establishes rockfish and halibut PSC sideboard limitations for C/Ps participating in Rockfish Program cooperatives. These C/Ps are prohibited from directed fishing for northern rockfish, Pacific ocean perch, and pelagic shelf rockfish in the Western GOA and West Yakutat District. The sideboard limits are in effect only during the month of July, and are designed to restrict eligible C/Ps to historic catch levels of these three species. Holders of C/P-designated LLP licenses that opt-out of participating in a rockfish cooperative will receive the portion of each sideboard limit that is not assigned to rockfish cooperatives. Table 17 lists the proposed 2012 and 2013 Rockfish Program C/P sideboard limits in the West Yakutat District and the Western GOA. Due to confidentiality requirements associated with fisheries data, the sideboard limits for the West Yakutat District are not displayed.

Table 17—Proposed 2012 and 2013 Rockfish Program Harvest Limits for the West Yakutat District and Western GOA by Fishery and Catcher/Processor Sector
[Values are rounded to the nearest metric ton]
Area | Fishery | C/P sector (% of TAC) | Proposed 2012 and 2013 TACs | Proposed 2012 and 2013 C/P limit
West Yakutat District | Pelagic shelf rockfish | Confid.¹ | 372 | N/A
| Pacific ocean perch | Confid.¹ | 1,845 | N/A
Western GOA | Pelagic shelf rockfish | 72.3 | 558 | 403
| Pacific ocean perch | 50.6 | 2,665 | 1,348
| Northern rockfish | 74.3 | 2,446 | 1,817
¹ Not released due to confidentiality requirements associated with fish ticket data established by NMFS and the State of Alaska.

The C/P sector is subject to halibut PSC sideboard limits for the trawl deep-water and shallow-water species fisheries during July 1 through July 31. No halibut PSC sideboard limits apply to the CV sector. C/Ps that opt-out of the Rockfish Program would receive the portion of the deep-water and shallow-water halibut PSC sideboard limit not assigned to C/P rockfish cooperatives. Table 18 lists the Rockfish Program halibut PSC limits proposed for the C/P sector in 2012 and 2013.

Table 18—Proposed 2012 and 2013 Rockfish Program Halibut Mortality Limits for the Catcher/Processor Sector
[Values are rounded to the nearest metric ton]
Sector | Shallow-water complex halibut PSC sideboard ratio (percent) | Deep-water complex halibut PSC sideboard ratio (percent) | Annual halibut mortality limit (mt) | Annual shallow-water complex halibut PSC sideboard limit (mt) | Annual deep-water complex halibut PSC sideboard limit (mt)
Catcher/processor | 0.10 | 2.50 | 2,000 | 2 | 50

The sideboard provisions for C/Ps that elect to opt-out of participating in a rockfish cooperative are described in the proposed rule to implement Amendment 88 (76 FR 52148, August 19, 2011). These ratios and amounts are not known at this time because vessels applications for C/Ps electing to opt-out are due to NMFS on March 1 of each calendar year, thereby preventing NMFS from calculating proposed 2012 and 2013 allocations. NMFS will post these allocations on the Alaska Region Web site at http://alaskafisheries.noaa.gov/sustainablefisheries/goarat/default.htm when they become available.

Amendment 80 Vessel Program Groundfish Sideboard and PSC Limits

Amendment 80 to the Fishery Management Plan for Groundfish of the Bering Sea and Aleutian Islands Management Area (Amendment 80 Program) established a limited access privilege program for the non-AFA trawl C/P sector. To limit the ability of participants eligible for the Amendment 80 program to expand their harvest efforts in the GOA, the Amendment 80 Program established groundfish and halibut PSC limits for Amendment 80 Program participants.

Section 679.92 establishes groundfish harvesting sideboard limits on all Amendment 80 Program vessels, other than the F/V GOLDEN FLEECE, to amounts no greater than the limits shown in Table 37 to part 679. Under regulations at § 679.92(d), the F/V GOLDEN FLEECE is prohibited from directed fishing for pollock, Pacific cod, Pacific ocean perch, pelagic shelf rockfish, and northern rockfish in the GOA.

Groundfish sideboard limits for Amendment 80 Program vessels operating in the GOA are based on their average aggregate harvests from 1998 to 2004. Table 19 lists the proposed 2012 and 2013 sideboard limits for Amendment 80 Program vessels. All targeted or incidental catch of sideboard species made by Amendment 80 Program vessels will be deducted from the sideboard limits in Table 19.

Table 19—Proposed 2012 and 2013 GOA Groundfish Sideboard Limits for Amendment 80 Program Vessels
[Values are rounded to the nearest metric ton]
Species | Season | Area | Ratio of Amendment 80 sector vessels 1998-2004 catch to TAC | Proposed 2012 and 2013 TAC (mt) | Proposed 2012 and 2013 Amendment 80 vessel sideboards (mt)
Pollock | A Season— | Shumagin (610) | 0.003 | 6,186 | 19
| January 20-February 25 | Chirikof (620) | 0.002 | 15,374 | 31
|  | Kodiak (630) | 0.002 | 5,783 | 12
| B Season— | Shumagin (610) | 0.003 | 6,185 | 19
| March 10-May 31 | Chirikof (620) | 0.002 | 18,394 | 37
|  | Kodiak (630) | 0.002 | 2,765 | 6
| C Season— | Shumagin (610) | 0.003 | 11,280 | 34
| August 25-September 15 | Chirikof (620) | 0.002 | 7,262 | 15
|  | Kodiak (630) | 0.002 | 8,803 | 18
| D Season— | Shumagin (610) | 0.003 | 11,280 | 34
| October 1-November 1 | Chirikof (620) | 0.002 | 7,262 | 15
|  | Kodiak (630) | 0.002 | 8,803 | 18
| Annual | WYK (640) | 0.002 | 3,024 | 6
Pacific cod | A Season ¹— | W | 0.020 | 12,317 | 246
| January 1-June 10 | C | 0.044 | 21,818 | 960
| B Season ²— | W | 0.020 | 8,211 | 164
| September 1-December 31 | C | 0.044 | 14,545 | 640
| Annual | WYK | 0.034 | 1,760 | 60
Pacific ocean perch | Annual | W | 0.994 | 2,665 | 2,649
|  | WYK | 0.961 | 1,845 | 1,773
Northern rockfish | Annual | W | 1.000 | 2,446 | 2,446
Pelagic shelf rockfish | Annual | W | 0.764 | 558 | 426
|  | WYK | 0.896 | 372 | 333
¹ The Pacific cod A season for trawl gear does not open until January 20.
² The Pacific cod B season for trawl gear closes November 1.

The PSC sideboard limits for Amendment 80 Program vessels in the GOA are based on the historic use of halibut PSC by Amendment 80 Program vessels in each PSC target category from 1998 through 2004. These values are slightly lower than the average historic use to accommodate two factors: Allocation of halibut PSC cooperative quota under the Central GOA Rockfish Program and the exemption of the F/V GOLDEN FLEECE from this restriction. Table 20 lists the proposed 2012 and 2013 halibut PSC limits for Amendment 80 Program vessels, as proscribed at Table 38 to 50 CFR part 679.

Table 20—Proposed 2012 and 2013 Halibut PSC Sideboard Limits for Amendment 80 Program Vessels in the GOA
[Values are rounded to nearest metric ton]
Season | Season dates | Fishery category | Historic Amendment 80 use of the annual halibut PSC limit (ratio) | Proposed 2012 and 2013 annual PSC limit (mt) | Proposed 2012 and 2013 Amendment 80 vessel PSC sideboard limit (mt)
1 | January 20-April 1 | shallow-water | 0.0048 | 2,000 | 10
|  | deep-water | 0.0115 | 2,000 | 23
2 | April 1-July 1 | shallow-water | 0.0189 | 2,000 | 38
|  | deep-water | 0.1072 | 2,000 | 214
3 | July 1-September 1 | shallow-water | 0.0146 | 2,000 | 29
|  | deep-water | 0.0521 | 2,000 | 104
4 | September 1-October 1 | shallow-water | 0.0074 | 2,000 | 15
|  | deep-water | 0.0014 | 2,000 | 3
5 | October 1-December 31 | shallow-water | 0.0227 | 2,000 | 45
|  | deep-water | 0.0371 | 2,000 | 74

Classification

NMFS has determined that the proposed harvest specifications are consistent with the FMP and preliminarily determined that the proposed harvest specifications are consistent with the Magnuson-Stevens Act and other applicable laws.

This action is authorized under 50 CFR 679.20 and is exempt from review under Executive Order 12866.

NMFS prepared an EIS for this action (see ADDRESSES) and made it available to the public on January 12, 2007 (72 FR 1512). On February 13, 2007, NMFS issued the Record of Decision (ROD) for the EIS. Copies of the EIS and ROD for this action are available from NMFS. The EIS analyzes the environmental consequences of the proposed groundfish harvest specifications and its alternatives on resources in the action area. The EIS found no significant environmental consequences from the proposed action or its alternatives.

NMFS prepared an Initial Regulatory Flexibility Analysis (IRFA) as required by section 603 of the Regulatory Flexibility Act, analyzing the methodology for establishing the relevant TACs. The IRFA evaluated the impacts on small entities of alternative harvest strategies for the groundfish fisheries in the EEZ off Alaska. As set forth in the methodology, TACs are set to a level that fall within the range of ABCs recommended by the SSC; the sum of the TACs must achieve the OY specified in the FMP. While the specific numbers that the methodology may produce vary from year to year, the methodology itself remains constant.

A description of the proposed action, why it is being considered, and the legal basis for this proposed action are contained in the preamble above. A copy of the analysis is available from NMFS (see ADDRESSES). A summary of the IRFA follows.

The action under consideration is a harvest strategy to govern the catch of groundfish in the GOA. The preferred alternative is the existing harvest strategy in which TACs fall within the range of ABCs recommended by the SSC. This action is taken in accordance with the FMP prepared by the Council pursuant to the Magnuson-Stevens Act.

The directly regulated small entities include approximately 627 CVs and approximately 10 C/Ps in the GOA. The entities directly regulated by this action are those that harvest groundfish in the EEZ of the GOA, and in parallel fisheries within State of Alaska waters. These include entities operating CVs and C/Ps within the action area, and entities receiving direct allocations of groundfish. Catcher vessels and C/Ps are considered to be small entities if they have annual gross receipts of $4 million per year or less from all economic activities, including the revenue of their affiliated operations (see Table 37 to the Economic Status of the Groundfish off Alaska, 2010, in the 2010 SAFE report, dated November 2010, available from the Council (see ADDRESSES)). Because the 627 CVs and 10 C/Ps meet this size standard, they are considered to be small entities for the purposes of this analysis.

The preferred alternative (Alternative 2) was compared to four other alternatives. Alternative 1 would have set TACs to generate fishing rates equal to the maximum permissible ABC (if the full TAC were harvested), unless the sum of TACs exceeded the GOA OY, in which case harvests would be limited to the OY. Alternative 3 would have set TACs to produce fishing rates equal to the most recent five-year average fishing rate. Alternative 4 would have set TACs to equal the lower limit of the GOA OY range. Alternative 5, the “no action alternative,” would have set TACs equal to zero.

The TACs associated with the preferred harvest strategy are those adopted by the Council in October 2011, as per Alternative 2. OFLs and ABCs for the species were based on recommendations prepared by the Council's GOA Plan Team in August and September 2011, and reviewed and modified by the Council's SSC in October 2011. The Council based its TAC recommendations on those of its AP, which were consistent with the SSC's OFL and ABC recommendations.

Alternative 1 selects harvest rates that would allow fishermen to harvest stocks at the level of ABCs, unless total harvests were constrained by the upper bound of the GOA OY of 800,000 mt. As shown in Table 1 of the preamble, the sum of ABCs in 2012 and 2013 would be about 603,990 mt, which falls below the upper bound of the OY range. The sum of TACs is equal to the sum of ABCs. In this instance, Alternative 1 is consistent with the preferred alternative (Alternative 2), meets the objectives of that action, and has small entity impacts that are equivalent to the preferred alternative. In some instances, the selection of Alternative 1 would not reflect the practical implications that increased TACs (where the sum of TACs equals the sum of ABCs) for some species probably would not be fully harvested. This could be due to a lack of commercial or market interest in such species. Additionally, an underharvest of some TACs could result due to constraints such as the fixed, and therefore constraining, prohibited species catch limits associated with the harvest of the GOA groundfish species.

Alternative 3 selects harvest rates based on the most recent five years of harvest rates (for species in Tiers 1 through 3) or for the most recent five years of harvests (for species in Tiers 4 through 6). This alternative is inconsistent with the objectives of this action, the Council's preferred harvest strategy, because it does not take account of the most recent biological information for this fishery. Harvest rates are listed for each species category for each year in the SAFE report (see ADDRESSES).

Alternative 4 would lead to significantly lower harvests of all species. It would reduce TACs from the upper end of the OY range in the GOA, to its lower end of 116,000 mt. Overall, this would reduce 2012 TACs by about 81 percent. This would lead to significant reductions in harvests of species harvested by small entities. While reductions of this size would be associated with offsetting price increases, the size of these increases is very uncertain. There are close substitutes for GOA groundfish species available in significant quantities from the Bering Sea and Aleutian Islands management area. While production declines in the GOA would undoubtedly be associated with significant price increases in the GOA, these increases would still be constrained by production of substitutes, and are very unlikely to offset revenue declines from smaller production. Thus, this alternative would have a detrimental impact on small entities.

Alternative 5, which sets all harvests equal to zero, may also address conservation issues, but would have a significant adverse economic impact on small entities. Tables 2 and 3 of the IRFA (see ADDRESSES) provide information on numbers of individual vessels with gross revenues less than $4 million, and with the average gross revenues for these vessels. These tables indicate that median annual aggregate revenues for these vessels in the years from 2005 to 2009 were $386 million; annual aggregate revenues for this group of vessels ranged from $308 to $451 million. These estimates do not take account of affiliations among vessels, and thus overstate the revenues flowing to small entities

The proposed harvest specifications extend the current 2012 OFLs, ABCs, and most TACs, to 2012 and 2013. As noted in the IRFA, the Council may modify these OFLs, ABCs, and TACs in December 2011, when it reviews the November meeting reports from its groundfish plan teams, and the December Council meeting reports of its SSC and AP. Because most TACs in the proposed 2012 and 2013 harvest specifications are unchanged from the 2011 TACs, NMFS does not expect adverse impacts on small entities. Also, NMFS does not expect any changes made by the Council in December to have significant adverse impacts on small entities.

This action does not modify recordkeeping or reporting requirements, or duplicate, overlap, or conflict with any Federal rules.

Adverse impacts on marine mammals or endangered species resulting from fishing activities conducted under this rule are discussed in the EIS and its accompanying annual SIRs (see ADDRESSES).

Authority: 16 U.S.C. 773 et seq.; 1801 et seq.; 3631 et seq.; Public Law 108-447.

Dated: December 16, 2011.
Samuel D. Rauch III,
Deputy Assistant Administrator for Regulatory Programs, National Marine Fisheries Service.

[FR Doc. 2011-32848 Filed 12-21-11; 8:45 am]

BILLING CODE 3510-22-P